DEPARTMENT OF COMMERCE

National Oceanic and Atmospheric Administration

50 CFR Part 679

[Docket No. 230306-0065; RTID 0648-XC365]

Fisheries of the Exclusive Economic Zone Off Alaska; Bering Sea and Aleutian Islands; Final 2023 and 2024 Harvest Specifications for Groundfish

AGENCY: National Marine Fisheries Service (NMFS), National Oceanic and Atmospheric Administration (NOAA), Commerce.

ACTION: Final rule; harvest specifications and closures.

SUMMARY: NMFS announces final 2023 and 2024 harvest specifications, apportionments, and prohibited species catch allowances for the groundfish fishery of the Bering Sea and Aleutian Islands management area (BSAI). This action is necessary to establish harvest limits for groundfish during the remainder of the 2023 and the start of the 2024 fishing years and to accomplish the goals and objectives of the Fishery Management Plan for Groundfish of the Bering Sea and Aleutian Islands Management Area (FMP). The 2023 harvest specifications supersede those previously set in the final 2022 and 2023 harvest specifications, and the 2024 harvest specifications will be superseded in early 2024 when the final 2024 and 2025 harvest specifications are published. The intended effect of this action is to conserve and manage the groundfish resources in the Bering Sea and Aleutian Islands Management Area (BSAI) in accordance with the Magnuson-Stevens Fishery Conservation and Management Act (Magnuson-Stevens Act; MSA).

DATES: Harvest specifications and closures are effective from 1200 hours, Alaska local time (A.l.t.), March 10, 2023, through 2400 hours, A.l.t., December 31, 2024.

ADDRESSES: Electronic copies of the Alaska Groundfish Harvest Specifications Final Environmental Impact Statement (EIS), Record of Decision (ROD), and the annual Supplementary Information Reports (SIRs) to the Final EIS prepared for this action are available from https://www.fisheries.noaa.gov/region/alaska. The 2022 Stock Assessment and Fishery Evaluation (SAFE) report for the groundfish resources of the BSAI, dated November 2022, as well as the SAFE reports for previous years, are available from the North Pacific Fishery Management Council (Council) at 1007 West Third Ave., Suite 400, Anchorage, AK 99501, phone 907-271-2809, or from the Council's website at https://www.npfmc.org/.

FOR FURTHER INFORMATION CONTACT: Steve Whitney, 907-586-7228.

SUPPLEMENTARY INFORMATION: Federal regulations at 50 CFR part 679 implement the FMP and govern the groundfish fisheries in the BSAI. The Council prepared the FMP, and NMFS approved it, under the Magnuson-Stevens Act. General regulations governing U.S. fisheries also appear at 50 CFR part 600.

The FMP and its implementing regulations require NMFS, after consultation with the Council, to specify annually the total allowable catch (TAC) for each target species category. The sum of all TACs for all groundfish species in the BSAI must be within the optimum yield (OY) range of 1.4 million to 2.0 million metric tons (mt) (see § 679.20(a)(1)(i)(A) and 679.20(a)(2)). This final rule specifies the sum of the TAC at 2.0 million mt for 2023 and 2.0 million mt for 2024. NMFS also must specify apportionments of TAC; prohibited species catch (PSC) allowances and prohibited species quota (PSQ) reserves established by § 679.21; seasonal allowances of pollock, Pacific cod, and Atka mackerel TAC; American Fisheries Act allocations; Amendment 80 allocations; Community Development Quota (CDQ) reserve amounts established by § 679.20(b)(1)(ii); acceptable biological catch (ABC) surpluses and reserves for CDQ groups and any Amendment 80 cooperatives for flathead sole, rock sole, and yellowfin sole; and halibut discard mortality rates (DMRs). The final harvest specifications set forth in Tables 1 through 22 of this action satisfy these requirements.

Section 679.20(c)(3)(i) further requires that NMFS consider public comment on the proposed harvest specifications and, after consultation with the Council, publish final harvest specifications in the Federal Register. The proposed 2023 and 2024 harvest specifications for the groundfish fishery of the BSAI were published in the Federal Register on December 14, 2022 (87 FR 76435). Comments were invited and accepted through January 13, 2023. As discussed in the Response to Comments section below, NMFS received six letters raising seventeen distinct comments during the public comment period for the proposed BSAI groundfish harvest specifications. NMFS's responses are addressed in the Response to Comments section below.

NMFS consulted with the Council on the final 2023 and 2024 harvest specifications during the December 2022 Council meeting. After considering public comments during public meetings and public comments submitted for the proposed rule (87 FR 76435), as well as biological and socioeconomic data that were available at the Council's December 2022 meeting, NMFS implements in this final rule the final 2023 and 2024 harvest specifications as recommended by the Council.

ABC and TAC Harvest Specifications

The final ABC amounts for Alaska groundfish are based on the best available biological information, including projected biomass trends, information on assumed distribution of stock biomass, and revised technical methods used to calculate stock biomass. In general, the development of ABCs and overfishing levels (OFLs) involves sophisticated statistical analyses of fish populations. The FMP specifies a series of six tiers to define OFL and ABC amounts based on the level of reliable information available to fishery scientists. Tier 1 represents the highest level of information quality available, while Tier 6 represents the lowest.

In December 2022, the Council, its Scientific and Statistical Committee (SSC), and its Advisory Panel (AP) reviewed current biological and harvest information about the condition of the BSAI groundfish stocks. The Council's BSAI Groundfish Plan Team (Plan Team) compiled and presented this information in the 2022 SAFE report for the BSAI groundfish fisheries, dated November 2022 (see ADDRESSES). The SAFE report contains a review of the latest scientific analyses and estimates of each species' biomass and other biological parameters, as well as summaries of the available information on the BSAI ecosystem and the economic condition of groundfish fisheries off Alaska. NMFS notified the public of the comment period for these harvest specifications—and of the publication of the 2022 SAFE report—in the proposed harvest specifications (87 FR 76435, December 14, 2022). From the data and analyses in the SAFE report, the Plan Team recommended an OFL and ABC for each species and species group at the November 2022 Plan Team meeting.

In December 2022, the SSC, AP, and Council reviewed the Plan Team's recommendations. The final TAC recommendations were based on the ABCs, and were adjusted for other biological and socioeconomic considerations, including maintaining the sum of all the TACs within the required OY range of 1.4 million to 2.0 million mt. As required by annual catch limit rules for all fisheries (74 FR 3178, January 16, 2009), none of the Council's recommended 2023 or 2024 TACs exceed the final 2023 or 2024 ABCs for any species or species group. NMFS finds that the Council's recommended OFLs, ABCs, and TACs are consistent with the preferred harvest strategy outlined in the FMP and the biological condition of groundfish stocks as described in the 2022 SAFE report that was approved by the Council. Therefore, this final rule provides notification that the Secretary of Commerce approves the final 2023 and 2024 harvest specifications as recommended by the Council.

The 2023 harvest specifications set in this final action supersede the 2023 harvest specifications previously set in the final 2022 and 2023 harvest specifications (87 FR 11626, March 2, 2022). The 2024 harvest specifications herein will be superseded in early 2024 when the final 2024 and 2025 harvest specifications are published. Pursuant to this final action, the 2023 harvest specifications therefore will apply for the remainder of the current year (2023), while the 2024 harvest specifications are projected only for the following year (2024) and will be superseded in early 2024 by the final 2024 and 2025 harvest specifications. Because this final action (published in early 2023) will be superseded in early 2024 by the publication of the final 2024 and 2025 harvest specifications, it is projected that this final action will implement the harvest specifications for the BSAI for approximately 1 year.

Other Actions Affecting the 2023 and 2024 Harvest Specifications

State of Alaska Guideline Harvest Levels

For 2023 and 2024, the Board of Fisheries (BOF) for the State of Alaska (State) established the guideline harvest level (GHL) for vessels using pot, longline, jig, and hand troll gear in State waters in the State's Aleutian Islands (AI) State waters sablefish registration area that includes all State waters west of Scotch Cap Light (164°44.72′ W longitude) and south of Cape Sarichef (54°36′ N latitude). The 2023 AI GHL is set at 5 percent (865 mt) of the combined 2023 Bering Sea subarea (BS) and AI subarea ABC (mt). The 2024 AI GHL is set at 5 percent (1,025 mt) of the combined 2024 BS subarea and AI subarea ABC (mt). The State's AI sablefish registration area includes areas adjacent to parts of the Federal BS. The Council and its BSAI Groundfish Plan Team (Plan Team), SSC, and AP recommended that the sum of all State and Federal waters sablefish removals from the BS and AI not exceed the ABC recommendations for sablefish in the BS and AI. Accordingly, the Council recommended, and NMFS approves, that the 2023 and 2024 sablefish TACs in the BS and AI account for the State's GHLs for sablefish caught in State waters.

For 2023 and 2024, the BOF for the State established the GHL for vessels using pot gear in State waters in the BS equal to 12 percent of the Pacific cod ABC in the BS when the ABC is between 125,000 mt and 150,000 mt. For 2023, the BS Pacific cod ABC is 144,834 mt, and for 2024, it is 140,159 mt. Therefore, the GHL in the BS for pot gear will be 12 percent for 2023 (17,380 mt) and 2024 (16,819 mt). Also, for 2023 and 2024, the BOF established an additional GHL for vessels using jig gear in State waters in the BS equal to 45 mt of Pacific cod in the BS. The Council and its Plan Team, SSC, and AP recommended that the sum of all State and Federal waters Pacific cod removals from the BS not exceed the ABC recommendations for Pacific cod in the BS. Accordingly, the Council recommended, and NMFS approves, that the 2023 and 2024 Pacific cod TACs in the BS account for the State's GHLs for Pacific cod caught in State waters in the BS.

For 2023 and 2024, the BOF for the State established the GHL in State waters in the Aleutian Islands subarea (AI) equal to 39 percent of the AI ABC. The AI GHL will increase annually by 4 percent of the AI ABC, if 90 percent of the GHL is harvested by November 15 of the preceding year, but may not exceed 39 percent of the AI ABC or 15 million pounds (6,804 mt). For 2023 and for 2024, 39 percent of the AI ABC is 5,387 mt. The Council and its Plan Team, SSC, and AP recommended that the sum of all State and Federal waters Pacific cod removals from the AI not exceed the ABC recommendations for Pacific cod in the AI. Accordingly, the Council recommended, and NMFS approves, that the 2023 and 2024 Pacific cod TACs in the AI account for the State's GHL of 5,387 mt for Pacific cod caught in State waters in the AI.

Halibut Abundance-Based Management for the Amendment 80 Program PSC Limit

On December 9, 2022, NMFS published a proposed rule (87 FR 75570), and an extension of public comment (87 FR 75569), to implement Amendment 123 to the FMP, which if approved would establish abundance-based management of Amendment 80 Program PSC for Pacific halibut. The proposed action would replace the current Amendment 80 sector static halibut PSC limit (1,745 mt) with a process for annually setting the Amendment 80 sector halibut PSC limit based on the most recent halibut abundance estimates from the International Pacific Halibut Commission setline survey and the NMFS Alaska Fisheries Science Center Eastern Bering Sea shelf trawl survey. The annual process would use a table with pre-established halibut abundance ranges based on those surveys. The annual Amendment 80 sector halibut PSC limit would be set at the value found at the intercept of the results from the most recent surveys. Further details are available in the proposed rule to implement Amendment 123. If the FMP amendment and its implementing regulations are approved by the Secretary of Commerce, the action is anticipated to be effective in 2024. Until effective, NMFS will continue to use the current Amendment 80 halibut PSC limit listed at § 679.21(b)(1) and published in the harvest specifications.

Pacific Cod Trawl Cooperative Limited Access Privilege Program

On February 9, 2023, NMFS published a proposed rule to implement Amendment 122 to the FMP, which if approved would implement a limited access privilege program called the Pacific cod Trawl Cooperative (PCTC) Program (88 FR 8592, February 9, 2023). The PCTC Program would allocate quota share (QS) to groundfish License Limitation Program license holders and to processors based on history during the qualifying years. Under this program, QS holders would be required to join cooperatives annually. Cooperatives would be allocated the BSAI trawl catcher vessel (CV) sector's A and B season Pacific cod allocations as an exclusive harvest privilege in the form of cooperative quota, equivalent to the aggregate QS of all cooperative members. NMFS anticipates that the regulations at § 679.20(a)(7)(viii) will be removed through implementation of the PCTC Program, if approved. Further details are available in the proposed rule to implement Amendment 122. If the FMP amendment and its implementing regulations are approved by the Secretary of Commerce, the action is anticipated to be effective in 2024. Until effective, NMFS will continue the current management of the BSAI trawl CV Pacific cod allocation.

Amendment 124 to the BSAI FMP for Groundfish To Revise Individual Fishing Quota (IFQ) Program Regulations

On November 23, 2022, NMFS published a proposed rule (87 FR 71559) to implement Amendment 124 to the FMP, which if approved would allow jig gear as an authorized fishing gear type in the BSAI sablefish IFQ and CDQ fisheries. The Council's intent in recommending Amendment 124 is to increase entry-level opportunities and increase flexibility for IFQ holders. This is because jig gear is a smaller investment than other gear types and does not require significant vessel retrofits as with other gear. Additionally, jig gear is already an authorized gear type for the harvest of halibut IFQ and CDQ and this action would further align the authorized gear types in the halibut and sablefish IFQ and CDQ fisheries. Further details are available in the proposed rule to implement Amendment 124. If the FMP amendment and its implementing regulations are approved by the Secretary of Commerce, the action is anticipated to be effective for the 2023 IFQ and CDQ season.

Changes From the Proposed 2023 and 2024 Harvest Specifications for the BSAI

The Council's recommendations for the proposed 2023 and 2024 harvest specifications (87 FR 76435, December 14, 2022) were based largely on information contained in the 2021 SAFE report for the BSAI groundfish fisheries. Through the proposed harvest specifications, NMFS notified the public that these harvest specifications could change, as the Council would consider information contained in the 2022 SAFE report; recommendations from the Plan Team, SSC, and AP; and public comments when making its recommendations for final harvest specifications at the December 2022 Council meeting. NMFS further notified the public that, as required by the FMP and its implementing regulations, the sum of the TACs must be within the OY range of 1.4 million and 2.0 million mt.

Information contained in the 2022 SAFE report indicates biomass changes from the 2021 SAFE report for several groundfish species. The 2022 SAFE report was made available for public review during the public comment period for the proposed harvest specifications. At the December 2022 Council meeting, the SSC recommended the 2023 and 2024 OFLs and ABCs based on the best and most recent information contained in the 2022 SAFE report. The SSC's recommendation resulted in an ABC sum total for all BSAI groundfish species in excess of 2.0 million mt for both 2023 and 2024.

Based on larger spawning biomass estimates, the Council recommends final BS pollock TACs increase by 11,000 mt in 2023 and 13,000 mt in 2024 compared to the proposed 2023 and 2024 BS pollock TACs. The Council also recommends increasing the BSAI rock sole TAC by 11,000 mt in 2023 and 11,000 mt in 2024, and increasing the flathead sole TAC by 10,000 mt in 2023 and 10,000 mt in 2024, compared to the proposed 2023 and 2024 TACs. In terms of tonnage, the Council recommends reducing the TACs from the proposed TACs of several species of lower economic value to maintain an overall total TAC within the required OY range of 1.4 to 2.0 million mt with Alaska plaice, arrowtooth flounder, northern rockfish, and “other flatfish” having the largest TAC decreases. In terms of percentage, the largest TAC decreases from the proposed TACs of lower economically valued species were for Alaska plaice, arrowtooth flounder, Greenland turbot, Kamchatka flounder, octopuses, “other flatfish,” northern rockfish, and sharks. The Council recommends lowering the TACs of both BS and AI Pacific cod in 2023 and 2024 due to lower spawning biomasses.

The changes to TACs between the proposed and final harvest specifications are based on the most recent scientific and socioeconomic information and are consistent with the FMP, regulatory obligations, and harvest strategy as described in the proposed and final harvest specifications, including the required OY range of 1.4 million to 2.0 million mt. These changes are compared in Table 1A.

Table 1 lists the Council's recommended final 2023 OFL, ABC, TAC, initial TAC (ITAC), CDQ reserve allocations, and non-specified reserves of the BSAI groundfish species and species groups; and Table 2 lists the Council's recommended final 2024 OFL, ABC, TAC, ITAC, CDQ reserve allocations, and non-specified reserves of the BSAI groundfish species and species groups. NMFS concurs in these recommendations. These final 2023 and 2024 TAC amounts for the BSAI are within the OY range established for the BSAI and do not exceed the ABC for any species or species group. The apportionment of TAC amounts among fisheries and seasons is discussed below.

Table 1—Final 2023 Overfishing Level (OFL), Acceptable Biological Catch (ABC), Total Allowable Catch (TAC), Initial TAC (ITAC), CDQ Reserve Allocation, and Non-Specified Reserves of Groundfish in the BSAI ¹
[Amounts are in metric tons]
Species | Area | 2023: OFL | 2023: ABC | 2023: TAC | 2023: ITAC ² | 2023: CDQ ³ | 2023: Nonspecified reserves
Pollock ⁴ | BS | 3,381,000 | 1,910,000 | 1,300,000 | 1,170,000 | 130,000 |
| AI | 52,383 | 43,413 | 19,000 | 17,100 | 1,900 |
| Bogoslof | 115,146 | 86,360 | 300 | 300 |  |
Pacific cod ⁵ | BS | 172,495 | 144,834 | 127,409 | 113,776 | 13,633 |
| AI | 18,416 | 13,812 | 8,425 | 7,524 | 901 |
Sablefish ⁶ | Alaska-wide | 47,390 | 40,502 | n/a | n/a | n/a |
| BS | n/a | 8,417 | 7,996 | 6,597 | 1,099 | 300
| AI | n/a | 8,884 | 8,440 | 6,858 | 1,424 | 158
Yellowfin sole | BSAI | 404,882 | 378,499 | 230,000 | 205,390 | 24,610 |
Greenland turbot | BSAI | 4,645 | 3,960 | 3,960 | 3,366 | n/a |
| BS | n/a | 3,338 | 3,338 | 2,837 | 357 | 144
| AI | n/a | 622 | 622 | 529 |  | 93
Arrowtooth flounder | BSAI | 98,787 | 83,852 | 15,000 | 12,750 | 1,605 | 645
Kamchatka flounder | BSAI | 8,946 | 7,579 | 7,579 | 6,442 |  | 1,137
Rock sole ⁷ | BSAI | 166,034 | 121,719 | 66,000 | 58,938 | 7,062 |
Flathead sole ⁸ | BSAI | 79,256 | 65,344 | 35,500 | 31,702 | 3,799 |
Alaska plaice | BSAI | 40,823 | 33,946 | 17,500 | 14,875 |  | 2,625
Other flatfish ⁹ | BSAI | 22,919 | 17,189 | 4,500 | 3,825 |  | 675
Pacific ocean perch | BSAI | 50,133 | 42,038 | 37,703 | 33,157 | n/a |
| BS | n/a | 11,903 | 11,903 | 10,118 |  | 1,785
| EAI | n/a | 8,152 | 8,152 | 7,280 | 872 |
| CAI | n/a | 5,648 | 5,648 | 5,044 | 604 |
| WAI | n/a | 16,335 | 12,000 | 10,716 | 1,284 |
Northern rockfish | BSAI | 22,776 | 18,687 | 11,000 | 9,350 |  | 1,650
Blackspotted/Rougheye rockfish ¹⁰ | BSAI | 703 | 525 | 525 | 446 |  | 79
BS/EAI | n/a | 359 | 359 | 305 |  |  | 54
| CAI/WAI | n/a | 166 | 166 | 141 |  | 25
Shortraker rockfish | BSAI | 706 | 530 | 530 | 451 |  | 80
Other rockfish ¹¹ | BSAI | 1,680 | 1,260 | 1,260 | 1,071 |  | 189
| BS | n/a | 880 | 880 | 748 |  | 132
| AI | n/a | 380 | 380 | 323 |  | 57
Atka mackerel | BSAI | 118,787 | 98,588 | 69,282 | 61,869 | 7,413 |
| BS/EAI | n/a | 43,281 | 27,260 | 24,343 | 2,917 |
| CAI | n/a | 17,351 | 17,351 | 15,494 | 1,857 |
| WAI | n/a | 37,956 | 24,671 | 22,031 | 2,640 |
Skates | BSAI | 46,220 | 38,605 | 27,441 | 23,325 |  | 4,116
Sharks | BSAI | 689 | 450 | 250 | 213 |  | 38
Octopuses | BSAI | 4,769 | 3,576 | 400 | 340 |  | 60
Total |  | 4,859,585 | 3,155,268 | 2,000,000 | 1,789,662 | 196,564 | 13,773
Note: Regulatory areas and districts are defined at § 679.2 (BSAI=Bering Sea and Aleutian Islands management area, BS=Bering Sea subarea, AI=Aleutian Islands subarea, EAI=Eastern Aleutian district, CAI=Central Aleutian district, WAI=Western Aleutian district).
¹ These amounts apply to the entire BSAI management area unless otherwise specified. With the exception of pollock, and for the purpose of these harvest specifications, the Bering Sea subarea (BS) includes the Bogoslof District.
² Except for pollock, the portion of the sablefish TAC allocated to fixed gear, and Amendment 80 species (Atka mackerel, yellowfin sole, rock sole, flathead sole, Pacific cod, and Aleutian Islands Pacific ocean perch), 15 percent of each TAC is placed into a non-specified reserve (§ 679.20(b)(1)(i)). The ITAC for these species is the remainder of the TAC after the subtraction of these reserves. For pollock and Amendment 80 species, ITAC is the non-CDQ allocation of TAC (see footnotes 3 and 4).
³ For the Amendment 80 species (Atka mackerel, flathead sole, rock sole, yellowfin sole, Pacific cod, and Aleutian Islands Pacific ocean perch), 10.7 percent of the TAC is reserved for use by CDQ participants (see §§ 679.20(b)(1)(ii)(C)). 20 percent of the sablefish TAC allocated to fixed gear, 7.5 percent of the sablefish TAC allocated to trawl gear, and 10.7 percent of the TACs for Bering Sea Greenland turbot and arrowtooth flounder are reserved for use by CDQ participants (see § 679.20(b)(1)(ii)(B) and (D)). Aleutian Islands Greenland turbot, “other flatfish,” Alaska plaice, Bering Sea Pacific ocean perch, Kamchatka flounder, northern rockfish, shortraker rockfish, blackspotted/rougheye rockfish, “other rockfish,” skates, sharks, and octopuses are not allocated to the CDQ program.
⁴ Under § 679.20(a)(5)(i)(A), the annual BS pollock TAC, after subtracting first for the CDQ directed fishing allowance (10 percent) and second for the incidental catch allowance (50,000 mt), is further allocated by sector for a pollock directed fishery as follows: inshore—50 percent; catcher/processor—40 percent; and motherships—10 percent. Under § 679.20(a)(5)(iii)(B)(2), the annual AI pollock TAC, after subtracting first for the CDQ directed fishing allowance (10 percent) and second for the incidental catch allowance (2,500 mt), is allocated to the Aleut Corporation for a pollock directed fishery.
⁵ The BS Pacific cod TAC is set to account for the 12 percent, plus 45 mt, of the BS ABC for the State of Alaska's (State) guideline harvest level in State waters of the BS. The AI Pacific cod TAC is set to account for 39 percent of the AI ABC for the State guideline harvest level in State waters of the AI.
⁶ The sablefish OFL and ABC are Alaska-wide and include the Gulf of Alaska. The Alaska-wide sablefish OFL and ABC are included in the total OFL and ABC. The BS and AI sablefish TACs are set to account for the 5 percent of the BS and AI ABC for the State of Alaska's (State) guideline harvest level in State waters of the BS and AI.
⁷ “Rock sole” includes Lepidopsetta polyxystra (Northern rock sole) and Lepidopsetta bilineata (Southern rock sole).
⁸ “Flathead sole” includes Hippoglossoides elassodon (flathead sole) and Hippoglossoides robustus (Bering flounder).
⁹ “Other flatfish” includes all flatfish species, except for halibut (a prohibited species), Alaska plaice, arrowtooth flounder, flathead sole, Greenland turbot, Kamchatka flounder, rock sole, and yellowfin sole.
¹⁰ “Blackspotted/Rougheye rockfish” includes Sebastes melanostictus (blackspotted) and Sebastes aleutianus (rougheye).
¹¹ “Other rockfish” includes all Sebastes and Sebastolobus species except for dark rockfish, Pacific ocean perch, northern rockfish, blackspotted/rougheye rockfish, and shortraker rockfish.

Table 1a—Comparison of Final 2023 and 2024 With Proposed 2023 and 2024 Total Allowable Catch in the BSAI
[Amounts are in metric tons]
Species | Area ¹ | 2023 final TAC | 2023 and 2024 proposed TAC | 2023 difference from proposed | 2023 percentage difference from proposed | 2024 final TAC | 2024 difference from proposed | 2024 percentage difference from proposed
Pollock | BS | 1,300,000 | 1,289,000 | 11,000 | 0.9 | 1,302,000 | 13,000 | 1.0
| AI | 19,000 | 19,000 |  |  | 19,000 |  |
| Bogoslof | 300 | 250 | 50 | 20.0 | 300 | 50 | 20.0
Pacific cod | BS | 127,409 | 133,459 | (6,050) | (4.5) | 123,295 | (10,164) | (7.6)
| AI | 8,425 | 13,796 | (5,371) | (38.9) | 8,425 | (5,371) | (38.9)
Sablefish | BS | 7,996 | 6,529 | 1,467 | 22.5 | 9,676 | 3,147 | 48.2
| AI | 8,440 | 7,786 | 654 | 8.4 | 9,793 | 2,007 | 25.8
Yellowfin sole | BSAI | 230,000 | 230,000 |  |  | 230,656 | 656 | 0.3
Greenland turbot | BS | 3,338 | 4,825 | (1,487) | (30.8) | 2,836 | (1,989) | (41.2)
| AI | 622 | 899 | (277) | (30.8) | 528 | (371) | (41.3)
Arrowtooth flounder | BSAI | 15,000 | 20,000 | (5,000) | (25.0) | 15,000 | (5,000) | (25.0)
Kamchatka flounder | BSAI | 7,579 | 9,393 | (1,814) | (19.3) | 7,435 | (1,958) | (20.8)
Rock sole | BSAI | 66,000 | 55,000 | 11,000 | 20.0 | 66,000 | 11,000 | 20.0
Flathead sole | BSAI | 35,500 | 25,500 | 10,000 | 39.2 | 35,500 | 10,000 | 39.2
Alaska plaice | BSAI | 17,500 | 29,082 | (11,582) | (39.8) | 18,000 | (11,082) | (38.1)
Other flatfish | BSAI | 4,500 | 10,000 | (5,500) | (55.0) | 4,500 | (5,500) | (55.0)
Pacific ocean perch | BS | 11,903 | 9,956 | 1,947 | 19.6 | 11,700 | 1,744 | 17.5
| EAI | 8,152 | 7,774 | 378 | 4.9 | 8,013 | 239 | 3.1
| CAI | 5,648 | 5,722 | (74) | (1.3) | 5,551 | (171) | (3.0)
| WAI | 12,000 | 10,500 | 1,500 | 14.3 | 13,000 | 2,500 | 23.8
Northern rockfish | BSAI | 11,000 | 17,000 | (6,000) | (35.3) | 11,000 | (6,000) | (35.3)
Blackspotted and Rougheye rockfish | BS/EAI | 359 | 334 | 25 | 7.5 | 388 | 54 | 16.2
| CAI/WAI | 166 | 183 | (17) | (9.3) | 182 | (1) | (0.5)
Shortraker rockfish | BSAI | 530 | 541 | (11) | (2.0) | 530 | (11) | (2.0)
Other rockfish | BS | 880 | 919 | (39) | (4.2) | 880 | (39) | (4.2)
| AI | 380 | 394 | (14) | (3.6) | 380 | (14) | (3.6)
Atka mackerel | EAI/BS | 27,260 | 25,000 | 2,260 | 9.0 | 30,000 | 5,000 | 20.0
| CAI | 17,351 | 15,470 | 1,881 | 12.2 | 15,218 | (252) | (1.6)
| WAI | 24,671 | 20,488 | 4,183 | 20.4 | 21,637 | 1,149 | 5.6
Skates | BSAI | 27,441 | 30,000 | (2,559) | (8.5) | 27,927 | (2,073) | (6.9)
Sharks | BSAI | 250 | 500 | (250) | (50.0) | 250 | (250) | (50.0)
Octopuses | BSAI | 400 | 700 | (300) | (42.9) | 400 | (300) | (42.9)
Total | BSAI | 2,000,000 | 2,000,000 |  |  | 2,000,000 |  |
¹ Bering Sea subarea (BS), Aleutian Islands subarea (AI), Bering Sea and Aleutian Islands management area (BSAI), Eastern Aleutian District (EAI), Central Aleutian District (CAI), and Western Aleutian District (WAI).

Table 2—Final 2024 Overfishing Level (OFL), Acceptable Biological Catch (ABC), Total Allowable Catch (TAC), Initial TAC (ITAC), CDQ Reserve Allocation, and Non-Specified Reserves of Groundfish in the BSAI ¹
[Amounts are in metric tons]
Species | Area | 2024: OFL | 2024: ABC | 2024: TAC | 2024: ITAC ² | 2024: CDQ ³ | 2024: Nonspecified reserves
Pollock ⁴ | BS | 4,639,000 | 2,275,000 | 1,302,000 | 1,171,800 | 130,200 |
| AI | 52,043 | 43,092 | 19,000 | 17,100 | 1,900 |
| Bogoslof | 115,146 | 86,360 | 300 | 300 |  |
Pacific cod ⁵ | BS | 166,814 | 140,159 | 123,295 | 110,102 | 13,193 |
| AI | 18,416 | 13,812 | 8,425 | 7,524 | 901 |
Sablefish ⁶ | Alaska-wide | 48,561 | 41,539 | n/a | n/a | n/a |
| BS | n/a | 10,185 | 9,676 | 4,112 | 363 | 363
| AI | n/a | 10,308 | 9,793 | 2,081 | 184 | 184
Yellowfin sole | BSAI | 495,155 | 462,890 | 230,656 | 205,976 | 24,680 |
Greenland turbot | BSAI | 3,947 | 3,364 | 3,364 | 2,859 | n/a |
| BS | n/a | 2,836 | 2,836 | 2,411 | 303 | 122
| AI | n/a | 528 | 528 | 449 |  | 79
Arrowtooth flounder | BSAI | 103,070 | 87,511 | 15,000 | 12,750 | 1,605 | 645
Kamchatka flounder | BSAI | 8,776 | 7,435 | 7,435 | 6,320 |  | 1,115
Rock sole ⁷ | BSAI | 196,011 | 119,969 | 66,000 | 58,938 | 7,062 |
Flathead sole ⁸ | BSAI | 81,167 | 66,927 | 35,500 | 31,702 | 3,799 |
Alaska plaice | BSAI | 43,328 | 36,021 | 18,000 | 15,300 |  | 2,700
Other flatfish ⁹ | BSAI | 22,919 | 17,189 | 4,500 | 3,825 |  | 675
Pacific ocean perch | BSAI BS | 49,279 n/a | 41,322 11,700 | 38,264 11,700 | 33,667 9,945 | n/a | 1,755
| EAI | n/a | 8,013 | 8,013 | 7,156 | 857 |
| CAI | n/a | 5,551 | 5,551 | 4,957 | 594 |
| WAI | n/a | 16,058 | 13,000 | 11,609 | 1,391 |
Northern rockfish | BSAI | 22,105 | 18,135 | 11,000 | 9,350 |  | 1,650
Blackspotted/Rougheye rock- | BSAI BS/EAI | 763 n/a | 570 388 | 570 388 | 485 330 | 86 | 58
fish ¹⁰ | CAI/WAI | n/a | 182 | 182 | 155 |  | 27
Shortraker rockfish | BSAI | 706 | 530 | 530 | 451 |  | 80
Other rockfish ¹¹ | BSAI | 1,680 | 1,260 | 1,260 | 1,071 |  | 189
| BS | n/a | 880 | 880 | 748 |  | 132
| AI | n/a | 380 | 380 | 323 |  | 57
Atka mackerel | BSAI | 101,188 | 86,464 | 66,855 | 59,702 | 7,153 |
| EAI/BS | n/a | 37,958 | 30,000 | 26,790 | 3,210 |
| CAI | n/a | 15,218 | 15,218 | 13,590 | 1,628 |
| WAI | n/a | 33,288 | 21,637 | 19,322 | 2,315 |
Skates | BSAI | 44,168 | 36,837 | 27,927 | 23,738 |  | 4,189
Sharks | BSAI | 689 | 450 | 250 | 213 |  | 38
Octopuses | BSAI | 4,769 | 3,576 | 400 | 340 |  | 60
Total |  | 6,219,700 | 3,590,412 | 2,000,000 | 1,779,703 | 194,185 | 13,928
Note: Regulatory areas and districts are defined at § 679.2 (BSAI=Bering Sea and Aleutian Islands management area, BS=Bering Sea subarea, AI=Aleutian Islands subarea, EAI=Eastern Aleutian district, CAI=Central Aleutian district, WAI=Western Aleutian district).
¹ These amounts apply to the entire BSAI management area unless otherwise specified. With the exception of pollock, and for the purpose of these harvest specifications, the Bering Sea subarea (BS) includes the Bogoslof District.
² Except for pollock, the portion of the sablefish TAC allocated to fixed gear, and Amendment 80 species (Atka mackerel, flathead sole, rock sole, yellowfin sole, Pacific cod, and Aleutian Islands Pacific ocean perch), 15 percent of each TAC is put into a non-specified reserve (§ 679.20(b)(1)(i)). The ITAC for these species is the remainder of the TAC after the subtraction of these reserves. For pollock and Amendment 80 species, ITAC is the non-CDQ allocation of TAC (see footnotes 3 and 4).
³ For the Amendment 80 species (Atka mackerel, flathead sole, rock sole, yellowfin sole, Pacific cod, and Aleutian Islands Pacific ocean perch), 10.7 percent of the TAC is reserved for use by CDQ participants (see §§ 679.20(b)(1)(ii)(C)). 20 percent of the sablefish TAC allocated to fixed gear, 7.5 percent of the sablefish TAC allocated to trawl gear, and 10.7 percent of the TACs for Bering Sea Greenland turbot and arrowtooth flounder are reserved for use by CDQ participants (see § 679.20(b)(1)(ii)(B) and (D)). The 2024 fixed gear portion of the sablefish ITAC and CDQ reserve will not be specified until the final 2024 and 2025 harvest specifications. Aleutian Islands Greenland turbot, “other flatfish,” Alaska plaice, Bering Sea Pacific ocean perch, Kamchatka flounder, northern rockfish, shortraker rockfish, blackspotted/rougheye rockfish, “other rockfish,” skates, sharks, and octopuses are not allocated to the CDQ program.
⁴ Under § 679.20(a)(5)(i)(A), the annual BS pollock TAC, after subtracting first for the CDQ directed fishing allowance (10 percent) and second for the incidental catch allowance (50,000 mt), is further allocated by sector for a pollock directed fishery as follows: inshore—50 percent; catcher/processor—40 percent; and motherships—10 percent. Under § 679.20(a)(5)(iii)(B)(2), the annual AI pollock TAC, after subtracting first for the CDQ directed fishing allowance (10 percent) and second for the incidental catch allowance (2,500 mt), is allocated to the Aleut Corporation for a pollock directed fishery.
⁵ The BS Pacific cod TAC is set to account for the 12 percent, plus 45 mt, of the BS ABC for the State of Alaska's (State) guideline harvest level in State waters of the BS. The AI Pacific cod TAC is set to account for 39 percent of the AI ABC for the State guideline harvest level in State waters of the AI.
⁶ The sablefish OFL and ABC are Alaska-wide and include the Gulf of Alaska. The Alaska-wide sablefish OFL and ABC are included in the total OFL and ABC. The BS and AI sablefish TACs are set to account for the 5 percent of the BS and AI ABC for the State of Alaska's (State) guideline harvest level in State waters of the BS and AI.
⁷ “Rock sole” includes Lepidopsetta polyxystra (Northern rock sole) and Lepidopsetta bilineata (Southern rock sole).
⁸ “Flathead sole” includes Hippoglossoides elassodon (flathead sole) and Hippoglossoides robustus (Bering flounder).
⁹ “Other flatfish” includes all flatfish species, except for halibut (a prohibited species), Alaska plaice, arrowtooth flounder, flathead sole, Greenland turbot, Kamchatka flounder, rock sole, and yellowfin sole.
¹⁰ “Blackspotted/Rougheye rockfish” includes Sebastes melanostictus (blackspotted) and Sebastes aleutianus (rougheye).
¹¹ “Other rockfish” includes all Sebastes and Sebastolobus species except for dark rockfish, Pacific ocean perch, northern rockfish, blackspotted/rougheye rockfish, and shortraker rockfish.

Groundfish Reserves and the Incidental Catch Allowance (ICA) for Pollock, Atka Mackerel, Flathead Sole, Rock Sole, Yellowfin Sole, and AI Pacific Ocean Perch

Section 679.20(b)(1)(i) requires that NMFS reserve 15 percent of the TAC for each target species (except for pollock, fixed gear allocation of sablefish, and Amendment 80 species) in a non-specified reserve. Section 679.20(b)(1)(ii)(B) requires that NMFS allocate 20 percent of the fixed gear allocation of sablefish to the fixed-gear sablefish CDQ reserve for each subarea. Section 679.20(b)(1)(ii)(D) requires that NMFS allocate 7.5 percent of the trawl gear allocations of sablefish in the BS and AI and 10.7 percent of the BS Greenland turbot and arrowtooth flounder TACs to the respective CDQ reserves. Section 679.20(b)(1)(ii)(C) requires that NMFS allocate 10.7 percent of the TACs for Atka mackerel, AI Pacific ocean perch, yellowfin sole, rock sole, flathead sole, and Pacific cod to the respective CDQ reserves. Section 679.20(b)(1)(ii)(A) also requires that 10 percent of the BS pollock TAC be allocated to the pollock CDQ directed fishing allowance (DFA). Section 679.20(b)(1)(ii)(A) requires that 10 percent of the AI pollock TAC be allocated to the pollock CDQ DFA. The entire Bogoslof District pollock TAC is allocated as an ICA pursuant to § 679.20(a)(5)(ii) because the Bogoslof District is closed to directed fishing for pollock by regulation (§ 679.22(a)(7)(B)). With the exception of the fixed gear sablefish CDQ reserve, the regulations do not further apportion the CDQ allocations by gear.

Pursuant to § 679.20(a)(5)(i)(A)(1), NMFS allocates a pollock ICA of 50,000 mt of the BS pollock TAC after subtracting the 10 percent CDQ DFA. This allowance is based on NMFS's examination of the pollock incidental catch, including the incidental catch by CDQ vessels, in target fisheries other than pollock from 2000 through 2022. During this 23-year period, the pollock incidental catch ranged from a low of 2.2 percent in 2006 to a high of 4.6 percent in 2014, with a 23-year average of 3 percent. Pursuant to § 679.20(a)(5)(iii)(B)(2)(i) and (ii), NMFS establishes a pollock ICA of 2,500 mt of the AI pollock TAC after subtracting the 10 percent CDQ DFA. This allowance is based on NMFS's examination of the pollock incidental catch, including the incidental catch by CDQ vessels, in target fisheries other than pollock from 2003 through 2022. During this 20-year period, the incidental catch of pollock ranged from a low of 5 percent in 2006 to a high of 17 percent in 2014, with a 20-year average of 9 percent.

After subtracting the 10.7 percent CDQ reserve and pursuant to § 679.20(a)(8) and (10), NMFS allocates ICAs of 3,000 mt of flathead sole, 6,000 mt of rock sole, 4,000 mt of yellowfin sole, 10 mt of WAI Pacific ocean perch, 60 mt of CAI Pacific ocean perch, 100 mt of Eastern Aleutian district (EAI) Pacific ocean perch, 20 mt of Western Aleutian district (WAI) Atka mackerel, 75 mt of Central Aleutian district (CAI) Atka mackerel, and 800 mt of EAI and BS Atka mackerel. These ICA allowances are based on NMFS's examination of the incidental catch in other target fisheries from 2003 through 2022.

The regulations do not designate the remainder of the non-specified reserve by species or species group. Any amount of the reserve may be apportioned to a target species that contributed to the non-specified reserves during the year, provided that such apportionments are consistent with § 679.20(a)(3) and do not result in overfishing (see § 679.20(b)(1)(i)). The Regional Administrator has determined that the ITACs specified for one species group listed in Tables 1 and 2 need to be supplemented from the non-specified reserve because U.S. fishing vessels have demonstrated the capacity to catch the full TAC allocations. Therefore, in accordance with § 679.20(b), NMFS is apportioning the amounts shown in Table 3 from the non-specified reserve to increase the ITAC for AI “other rockfish” by 15 percent of the “other rockfish” TAC in 2023 and 2024.

Table 3—Final 2023 and 2024 Apportionment of Non-Specified Reserves to ITAC Categories
[Amounts are in metric tons]
Species-area or subarea | 2023 ITAC | 2023 reserve amount | 2023 final TAC | 2024 ITAC | 2024 reserve amount | 2024 final TAC
Other rockfish-Aleutian Islands subarea | 323 | 57 | 380 | 323 | 57 | 380
Total | 323 | 57 | 380 | 323 | 57 | 380

Allocation of Pollock TAC Under the American Fisheries Act (AFA)

Section 679.20(a)(5)(i)(A) requires that the BS pollock TAC be apportioned as a DFA, after subtracting 10 percent for the CDQ program and 50,000 mt for the ICA in both 2023 and 2024, as follows: 50 percent to the inshore sector, 40 percent to the catcher/processor (CP) sector, and 10 percent to the mothership sector. In the BS, 45 percent of the DFAs are allocated to the A season (January 20-June 10), and 55 percent of the DFAs are allocated to the B season (June 10-November 1) (§§ 679.20(a)(5)(i)(B)(1) and 679.23(e)(2)). The AI directed pollock fishery allocation to the Aleut Corporation is the amount of pollock TAC remaining in the AI after subtracting 1,900 mt for the CDQ DFA (10 percent) and 2,500 mt for the ICA (§ 679.20(a)(5)(iii)(B)(2)). In the AI, the total A season apportionment of the TAC (including the AI directed fishery allocation, the CDQ DFA, and the ICA) may not exceed 40 percent of the ABC for AI pollock, and the remainder of the TAC is allocated to the B season (§ 679.20(a)(5)(iii)(B)(3)). Tables 4 and 5 list these 2023 and 2024 amounts.

Section 679.20(a)(5)(iii)(B)(6) sets harvest limits for pollock in the A season (January 20 to June 10) in Areas 543, 542, and 541. NMFS establishes harvest limits for pollock in the A season in Area 541 of no more than 30 percent, in Area 542 of no more than 15 percent, and in Area 543 of no more than 5 percent of the Aleutian Islands pollock ABC.

Section 679.20(a)(5)(i)(A)(4) also includes several specific requirements regarding BS pollock allocations. First, it requires that 8.5 percent of the pollock allocated to the CP sector be available for harvest by AFA CVs with CP sector endorsements, unless the Regional Administrator receives a cooperative contract that allows for the distribution of harvest among AFA CPs and AFA CVs in a manner agreed to by all members. Second, AFA CPs not listed in the AFA are limited to harvesting not more than 0.5 percent of the pollock allocated to the CP sector. Tables 4 and 5 list the 2023 and 2024 allocations of pollock TAC. Table 20 lists the AFA CP prohibited species sideboard limits, and Tables 21 and 22 list the AFA CV groundfish and prohibited species sideboard limits. The tables for the pollock allocations to the BS inshore pollock cooperatives and open access sector will be posted on the Alaska Region website at https://www.fisheries.noaa.gov/alaska/sustainable-fisheries/alaska-groundfish-fisheries-management.

Tables 4 and 5 also list seasonal apportionments of pollock and harvest limits within the Steller Sea Lion Conservation Area (SCA). The harvest of pollock within the SCA, as defined at § 679.22(a)(7)(vii), is limited to no more than 28 percent of the annual pollock DFA before 12 p.m. (noon), April 1, as provided in § 679.20(a)(5)(i)(C). The A season pollock SCA harvest limit will be apportioned to each sector in proportion to each sector's allocated percentage of the DFA.

Table 4—Final 2023 Allocations of Pollock TACs to the Directed Pollock Fisheries and to the CDQ Directed Fishing Allowances (DFA) ¹
[Amounts are in metric tons]
Area and sector | 2023 Allocations | 2023 A season ¹: A season DFA | 2023 A season ¹: SCA harvest limit ² | 2023 B season ¹: B season DFA
Bering Sea subarea TAC ¹ | 1,300,000 | n/a | n/a | n/a
CDQ DFA | 130,000 | 58,500 | 36,400 | 71,500
ICA ¹ | 50,000 | n/a | n/a | n/a
Total Bering Sea non-CDQ DFA | 1,120,000 | 504,000 | 313,600 | 616,000
AFA Inshore | 560,000 | 252,000 | 156,800 | 308,000
AFA Catcher/Processors ³ | 448,000 | 201,600 | 125,440 | 246,400
Catch by CPs | 409,920 | 184,464 | n/a | 225,456
Catch by CVs ³ | 38,080 | 17,136 | n/a | 20,944
Unlisted CP Limit ⁴ | 2,240 | 1,008 | n/a | 1,232
AFA Motherships | 112,000 | 50,400 | 31,360 | 61,600
Excessive Harvesting Limit ⁵ | 196,000 | n/a | n/a | n/a
Excessive Processing Limit ⁶ | 336,000 | n/a | n/a | n/a
Aleutian Islands subarea ABC | 43,413 | n/a | n/a | n/a
Aleutian Islands subarea TAC ¹ | 19,000 | n/a | n/a | n/a
CDQ DFA | 1,900 | 1,856 | n/a | 44
ICA | 2,500 | 1,250 | n/a | 1,250
Aleut Corporation | 14,600 | 14,260 | n/a | 340
Area harvest limit ⁷ | n/a | n/a | n/a | n/a
541 | 13,024 | n/a | n/a | n/a
542 | 6,512 | n/a | n/a | n/a
543 | 2,171 | n/a | n/a | n/a
Bogoslof District ICA ⁸ | 300 | n/a | n/a | n/a
Note: Seasonal or sector apportionments may not total precisely due to rounding.
¹ Pursuant to § 679.20(a)(5)(i)(A), the Bering Sea subarea pollock TAC, after subtracting the CDQ DFA (10 percent) and the ICA (50,000 mt, 4.27 percent), is allocated as a DFA as follows: inshore sector—50 percent, catcher/processor sector (CP)—40 percent, and mothership sector—10 percent. In the Bering Sea subarea, 45 percent of the DFAs are allocated to the A season (January 20-June 10) and 55 percent of the DFAs are allocated to the B season (June 10-November 1). When the AI pollock ABC equals or exceeds 19,000 mt, the annual TAC is equal to 19,000 mt (§ 679.20(a)(5)(iii)(B)(1)). Pursuant to § 679.20(a)(5)(iii)(B)(2), the Aleutian Islands subarea pollock TAC, after subtracting first for the CDQ DFA (10 percent) and second for the ICA (2,500 mt), is allocated to the Aleut Corporation for a pollock directed fishery. In the Aleutian Islands subarea, the A season is allocated no more than 40 percent of the Aleutian Islands pollock ABC.
² In the Bering Sea subarea, pursuant to § 679.20(a)(5)(i)(C), no more than 28 percent of each sector's annual DFA may be taken from the SCA before 12 p.m. (noon), April 1.
³ Pursuant to § 679.20(a)(5)(i)(A)(4), 8.5 percent of the allocation to listed CPs shall be available for harvest only by eligible catcher vessels with a CP endorsement delivering to listed CPs, unless there is a CP sector cooperative for the year.
⁴ Pursuant to § 679.20(a)(5)(i)(A)(4)(iii), the AFA unlisted catcher/processors are limited to harvesting not more than 0.5 percent of the catcher/processor sector's allocation of pollock.
⁵ Pursuant to § 679.20(a)(5)(i)(A)(6), NMFS establishes an excessive harvesting share limit equal to 17.5 percent of the sum of the non-CDQ pollock DFAs.
⁶ Pursuant to § 679.20(a)(5)(i)(A)(7), NMFS establishes an excessive processing share limit equal to 30 percent of the sum of the non-CDQ pollock DFAs.
⁷ Pursuant to § 679.20(a)(5)(iii)(B)(6), NMFS establishes harvest limits for pollock in the A season in Area 541 of no more than 30 percent, in Area 542 of no more than 15 percent, and in Area 543 of no more than 5 percent of the Aleutian Islands pollock ABC.
⁸ Pursuant to § 679.22(a)(7)(B), the Bogoslof District is closed to directed fishing for pollock. The amounts specified are for incidental catch only and are not apportioned by season or sector.

Table 5—Final 2024 Allocations of Pollock TACs to the Directed Pollock Fisheries And to the CDQ Directed Fishing Allowances (DFA) ¹
[Amounts are in metric tons]
Area and sector | 2024 Allocations | 2024 A season ¹: A season DFA | 2024 A season ¹: SCA harvest limit ² | 2024 B season ¹: B season DFA
Bering Sea subarea
TAC¹ | 1,302,000 | n/a | n/a | n/a
CDQ DFA | 130,200 | 58,590 | 36,456 | 71,610
ICA ¹ | 50,000 | n/a | n/a | n/a
Total Bering Sea non-CDQ DFA | 1,121,800 | 504,810 | 314,104 | 616,990
AFA Inshore | 560,900 | 252,405 | 157,052 | 308,495
AFA Catcher/Processors ³ | 448,720 | 201,924 | 125,642 | 246,796
Catch by CPs | 410,579 | 184,760 | n/a | 225,818
Catch by CVs ³ | 38,141 | 17,164 | n/a | 20,978
Unlisted CP Limit ⁴ | 2,244 | 1,010 | n/a | 1,234
AFA Motherships | 112,180 | 50,481 | 31,410 | 61,699
Excessive Harvesting Limit ⁵ | 196,315 | n/a | n/a | n/a
Excessive Processing Limit ⁶ | 336,540 | n/a | n/a | n/a
Aleutian Islands subarea ABC | 43,092 | n/a | n/a | n/a
Aleutian Islands subarea TAC ¹ | 19,000 | n/a | n/a | n/a
CDQ DFA | 1,900 | 1,841 | n/a | 59
ICA | 2,500 | 1,250 | n/a | 1,250
Aleut Corporation | 14,600 | 14,146 | n/a | 454
Area harvest limit ⁷ | n/a | n/a | n/a | n/a
541 | 12,928 | n/a | n/a | n/a
542 | 6,464 | n/a | n/a | n/a
543 | 2,155 | n/a | n/a | n/a
Bogoslof District ICA ⁸ | 300 | n/a | n/a | n/a
Note: Seasonal or sector apportionments may not total precisely due to rounding.
¹ Pursuant to § 679.20(a)(5)(i)(A), the Bering Sea subarea pollock TAC, after subtracting the CDQ DFA (10 percent) and the ICA (50,000 mt, 4.27 percent), is allocated as a DFA as follows: inshore sector—50 percent, catcher/processor sector (CP)—40 percent, and mothership sector—10 percent. In the Bering Sea subarea, 45 percent of the DFAs are allocated to the A season (January 20-June 10) and 55 percent of the DFAs are allocated to the B season (June 10-November 1). When the AI pollock ABC equals or exceeds 19,000 mt, the annual TAC is equal to 19,000 mt (§ 679.20(a)(5)(iii)(B)(1)). Pursuant to § 679.20(a)(5)(iii)(B)(2), the Aleutian Islands subarea pollock TAC, after subtracting first for the CDQ DFA (10 percent) and second for the ICA (2,500 mt), is allocated to the Aleut Corporation for a pollock directed fishery. In the Aleutian Islands subarea, the A season is allocated no more than 40 percent of the Aleutian Islands pollock ABC.
² In the Bering Sea subarea, pursuant to § 679.20(a)(5)(i)(C), no more than 28 percent of each sector's annual DFA may be taken from the SCA before 12 p.m. (noon), April 1.
³ Pursuant to § 679.20(a)(5)(i)(A)(4), 8.5 percent of the allocation to listed CPs shall be available for harvest only by eligible catcher vessels with a CP endorsement delivering to listed CPs, unless there is a CP sector cooperative for the year.
⁴ Pursuant to § 679.20(a)(5)(i)(A)(4)(iii), the AFA unlisted catcher/processors are limited to harvesting not more than 0.5 percent of the catcher/processor sector's allocation of pollock.
⁵ Pursuant to § 679.20(a)(5)(i)(A)(6), NMFS establishes an excessive harvesting share limit equal to 17.5 percent of the sum of the non-CDQ pollock DFAs.
⁶ Pursuant to § 679.20(a)(5)(i)(A)(7), NMFS establishes an excessive processing share limit equal to 30 percent of the sum of the non-CDQ pollock DFAs.
⁷ Pursuant to § 679.20(a)(5)(iii)(B)(6), NMFS establishes harvest limits for pollock in the A season in Area 541 of no more than 30 percent, in Area 542 of no more than 15 percent, and in Area 543 of no more than 5 percent of the Aleutian Islands pollock ABC.
⁸ Pursuant to § 679.22(a)(7)(B), the Bogoslof District is closed to directed fishing for pollock. The amounts specified are for incidental catch only and are not apportioned by season or sector.

Allocation of the Atka Mackerel TACs

Section 679.20(a)(8) allocates the Atka mackerel TACs to the Amendment 80 and BSAI trawl limited access sectors, after subtracting the CDQ reserves, ICAs for the BSAI trawl limited access sector and non-trawl gear sector, and the jig gear allocation (Tables 6 and 7). The percentage of the ITAC for Atka mackerel allocated to the Amendment 80 and BSAI trawl limited access sectors is listed in Table 33 to 50 CFR part 679 and in § 679.91. Pursuant to § 679.20(a)(8)(i), up to 2 percent of the EAI and the BS Atka mackerel TAC may be allocated to vessels using jig gear. The percent of this allocation is recommended annually by the Council based on several criteria, including, among other criteria, the anticipated harvest capacity of the jig gear fleet. The Council recommended, and NMFS approves, a 0.5 percent allocation of the Atka mackerel TAC in the EAI and BS to the jig gear sector in 2023 and 2024.

Section 679.20(a)(8)(ii)(A) apportions the Atka mackerel TAC, after subtraction of the jig gear allocation, into two equal seasonal allowances. Section 679.23(e)(3) sets the first seasonal allowance for directed fishing with trawl gear from January 20 through June 10 (A season), and the second seasonal allowance from June 10 through December 31 (B season). Section 679.23(e)(4)(iii) applies Atka mackerel seasons to CDQ Atka mackerel trawl fishing. Within any fishing year, any under harvest or over harvest of a seasonal allowance may be added to or subtracted from a subsequent seasonal allowance (§ 679.20(a)(8)(ii)(B)). The ICAs and jig gear allocations are not apportioned by season.

Sections 679.20(a)(8)(ii)(C)(1)(i) and (ii) limits Atka mackerel catch within waters 0 nautical miles (nmi) to 20 nmi of Steller sea lion sites listed in Table 6 to 50 CFR part 679 and located west of 178° W longitude to no more than 60 percent of the annual TACs in Areas 542 and 543, and equally divides the annual TACs between the A and B seasons as defined at § 679.23(e)(3). Section 679.20(a)(8)(ii)(C)(2) requires that the annual TAC in Area 543 will be no more than 65 percent of the ABC in Area 543. Section 679.20(a)(8)(ii)(D) requires that any unharvested Atka mackerel A season allowance that is added to the B season be prohibited from being harvested within waters 0 nmi to 20 nmi of Steller sea lion sites listed in Table 6 to 50 CFR part 679 and located in Areas 541, 542, and 543.

Tables 6 and 7 list these 2023 and 2024 Atka mackerel seasonal and area allowances, and the sector allocations. One Amendment 80 cooperative has formed for the 2023 fishing year. Because all Amendment 80 vessels are part of the sole Amendment 80 cooperative, no allocation to the Amendment 80 limited access sector is required for 2023. The 2024 allocations for Atka mackerel between Amendment 80 cooperatives and the Amendment 80 limited access sector will not be known until eligible participants apply for participation in the program by November 1, 2023.

Table 6—Final 2023 Seasonal and Spatial Allowances, Gear Shares, CDQ Reserve, Incidental Catch Allowance, and Amendment 80 Allocations of the BSAI Atka Mackerel TAC
[Amounts are in metric tons]
Sector ¹ | Season ² ³ ⁴ | 2023 Allocation by area: Eastern Aleutian district/Bering Sea | 2023 Allocation by area: Central Aleutian district ⁵ | 2023 Allocation by area: Western Aleutian district
TAC | n/a | 27,260 | 17,351 | 24,671
CDQ reserve | Total | 2,917 | 1,857 | 2,640
| A | 1,458 | 928 | 1,320
| Critical Habitat | n/a | 557 | 792
| B | 1,458 | 928 | 1,320
| Critical Habitat | n/a | 557 | 792
Non-CDQ TAC | n/a | 24,343 | 15,494 | 22,031
ICA | Total | 800 | 75 | 20
Jig ⁶ | Total | 118 |  |
BSAI trawl limited access | Total | 2,343 | 1,542 |
| A | 1,171 | 771 |
| Critical Habitat | n/a | 463 |
| B | 1,171 | 771 |
| Critical Habitat | n/a | 463 |
Amendment 80 sector | Total | 21,083 | 13,877 | 22,011
| A | 10,541 | 6,939 | 11,006
| Critical Habitat | n/a | 4,163 | 6,603
| B | 10,541 | 6,939 | 11,006
| Critical Habitat | n/a | 4,163 | 6,603
Note: Seasonal or sector apportionments may not total precisely due to rounding.
¹ Section 679.20(a)(8)(ii) allocates the Atka mackerel TACs, after subtracting the CDQ reserves, ICAs, and jig gear allocation, to the Amendment 80 and BSAI trawl limited access sectors. The allocation of the ITAC for Atka mackerel to the Amendment 80 and BSAI trawl limited access sectors is established in Table 33 to 50 CFR part 679 and § 679.91. The CDQ reserve is 10.7 percent of the TAC for use by CDQ participants (see § 679.20(b)(1)(ii)(C)).
² Sections 679.20(a)(8)(ii)(A) and 679.22(a) establish temporal and spatial limitations for the Atka mackerel fishery.
³ The seasonal allowances of Atka mackerel are 50 percent in the A season and 50 percent in the B season.
⁴ Section 679.23(e)(3) authorizes directed fishing for Atka mackerel with trawl gear during the A season from January 20 to June 10 and the B season from June 10 to December 31.
⁵ Section 679.20(a)(8)(ii)(C)(1)(i) limits no more than 60 percent of the annual TACs in Areas 542 and 543 to be caught inside of Steller sea lion protection areas; section 679.20(a)(8)(ii)(C)(1)(ii) equally divides the annual TACs between the A and B seasons as defined at § 679.23(e)(3); and section 679.20(a)(8)(ii)(C)(2) requires that the TAC in Area 543 shall be no more than 65 percent of ABC in Area 543.
⁶ Sections 679.2 and 679.20(a)(8)(i) require that up to 2 percent of the Eastern Aleutian Islands District and the Bering Sea subarea TAC be allocated to jig gear after subtracting the CDQ reserve and the ICA. NMFS sets the amount of this allocation for 2023 at 0.5 percent. The jig gear allocation is not apportioned by season.

Table 7—Final 2024 Seasonal and Spatial Allowances, Gear Shares, CDQ Reserve, Incidental Catch Allowance, and Amendment 80 Allocation of the BSAI Atka Mackerel TAC
[Amounts are in metric tons]
Sector ¹ | Season ² ³ ⁴ | 2024 Allocation by area: Eastern Aleutian district/Bering Sea ⁵ | 2024 Allocation by area: Central Aleutian district ⁵ | 2024 Allocation by area: Western Aleutian district ⁵
TAC | n/a | 30,000 | 15,218 | 21,637
CDQ reserve | Total | 3,210 | 1,628 | 2,315
| A | 1,605 | 814 | 1,158
| Critical Habitat | n/a | 488 | 695
| B | 1,605 | 814 | 1,158
| Critical Habitat | n/a | 488 | 695
non-CDQ TAC | n/a | 26,790 | 13,590 | 19,322
ICA | Total | 800 | 75 | 20
Jig ⁶ | Total | 130 |  |
BSAI trawl limited access | Total | 2,586 | 1,351 |
| A | 1,293 | 676 |
| Critical Habitat | n/a | 405 |
| B | 1,293 | 676 |
| Critical Habitat | n/a | 405 |
Amendment 80 sectors ⁷ | Total | 23,274 | 12,163 | 19,302
| A | 11,637 | 6,082 | 9,651
| Critical Habitat | n/a | 3,649 | 5,791
| B | 11,637 | 6,082 | 9,651
| Critical Habitat | n/a | 3,649 | 5,791
Note: Seasonal or sector apportionments may not total precisely due to rounding.
¹ Section 679.20(a)(8)(ii) allocates the Atka mackerel TACs, after subtracting the CDQ reserves, ICAs, and jig gear allocation, to the Amendment 80 and BSAI trawl limited access sectors. The allocation of the ITAC for Atka mackerel to the Amendment 80 and BSAI trawl limited access sectors is established in Table 33 to 50 CFR part 679 and § 679.91. The CDQ reserve is 10.7 percent of the TAC for use by CDQ participants (see § 679.20(b)(1)(ii)(C)).
² Sections 679.20(a)(8)(ii)(A) and 679.22(a) establish temporal and spatial limitations for the Atka mackerel fishery.
³ The seasonal allowances of Atka mackerel are 50 percent in the A season and 50 percent in the B season.
⁴ Section 679.23(e)(3) authorizes directed fishing for Atka mackerel with trawl gear during the A season from January 20 to June 10 and the B season from June 10 to December 31.
⁵ Section 679.20(a)(8)(ii)(C)(1)(i) limits no more than 60 percent of the annual TACs in Areas 542 and 543 to be caught inside of Steller sea lion protection areas; section 679.20(a)(8)(ii)(C)(1)(ii) equally divides the annual TACs between the A and B seasons as defined at § 679.23(e)(3); and section 679.20(a)(8)(ii)(C)(2) requires that the TAC in Area 543 shall be no more than 65 percent of ABC in Area 543.
⁶ Sections 679.2 and 679.20(a)(8)(i) requires that up to 2 percent of the Eastern Aleutian Islands District and the Bering Sea subarea TAC be allocated to jig gear after subtracting the CDQ reserve and the ICA. NMFS sets the amount of this allocation for 2024 at 0.5 percent. The jig gear allocation is not apportioned by season.
⁷ The 2024 allocations for Atka mackerel between Amendment 80 cooperatives and the Amendment 80 limited access sector will not be known until eligible participants apply for participation in the program by November 1, 2023.

Allocation of the Pacific Cod TAC

The Council separated BSAI subarea OFLs, ABCs, and TACs for Pacific cod in 2014 (79 FR 12108, March 4, 2014). Section 679.20(b)(1)(ii)(C) allocates 10.7 percent of the BS TAC and the AI TAC to the CDQ program. After CDQ allocations have been deducted from the respective BS and AI Pacific cod TACs, the remaining BSAI Pacific cod TACs are combined for calculating further BSAI Pacific cod sector allocations. If the non-CDQ Pacific cod TAC is or will be reached in either the BS or the AI subareas, NMFS will prohibit non-CDQ directed fishing for Pacific cod in that subarea as provided in § 679.20(d)(1)(iii).

Section 679.20(a)(7)(ii) allocates to the non-CDQ sectors the Pacific cod TAC in the combined BSAI, after subtracting 10.7 percent for the CDQ program, as follows: 1.4 percent to vessels using jig gear; 2.0 percent to hook-and-line or pot CVs less than 60 ft (18.3 m) length overall (LOA); 0.2 percent to hook-and-line CVs greater than or equal to 60 ft (18.3 m) LOA; 48.7 percent to hook-and-line CPs; 8.4 percent to pot CVs greater than or equal to 60 ft (18.3 m) LOA; 1.5 percent to pot CPs; 2.3 percent to AFA trawl CPs; 13.4 percent to Amendment 80 sector; and 22.1 percent to trawl CVs. The ICA for the hook-and-line and pot sectors will be deducted from the aggregate portion of Pacific cod TAC allocated to the hook-and-line and pot sectors. For 2023 and 2024, the Regional Administrator establishes an ICA of 500 mt based on anticipated incidental catch by these sectors in other fisheries. During the fishing year, NMFS may reallocate unharvested Pacific cod among sectors, consistent with the reallocation hierarchy set forth at § 679.20(a)(7)(iii).

The ITAC allocation of Pacific cod to the Amendment 80 sector is established in Table 33 to 50 CFR part 679 and § 679.91. One Amendment 80 cooperative has formed for the 2023 fishing year. Because all Amendment 80 vessels are part of the sole Amendment 80 cooperative, no allocation to the Amendment 80 limited access sector is required for 2023. The 2024 allocations for Pacific cod between Amendment 80 cooperatives and the Amendment 80 limited access sector will not be known until eligible participants apply for participation in the program by November 1, 2023.

The sector allocations of Pacific cod are apportioned into seasonal allowances to disperse the Pacific cod fisheries over the fishing year (see §§ 679.20(a)(7)(i)(B), 679.20(a)(7)(iv)(A), and 679.23(e)(5)). Tables 8 and 9 list the non-CDQ sector and seasonal allowances. In accordance with § 679.20(a)(7)(iv)(B) and (C), any unused portion of a non-CDQ Pacific cod seasonal allowance for any sector, except the jig sector, will become available at the beginning of that sector's next seasonal allowance. Section 679.20(a)(7)(i)(B) sets forth the CDQ Pacific cod gear allowances by season, and CDQ groups are prohibited from exceeding those seasonal allowances (§ 679.7(d)(6)).

Section 679.20(a)(7)(vii) requires that the Regional Administrator establish an Area 543 Pacific cod harvest limit based on Pacific cod abundance in Area 543 as determined by the annual stock assessment process. Based on the 2022 stock assessment, the Regional Administrator determined for 2023 and 2024 the estimated amount of Pacific cod abundance in Area 543 is 15.7 percent of the total AI abundance. To calculate the Area 543 Pacific cod harvest limit, NMFS first subtracts the State GHL Pacific cod amount from the AI Pacific cod ABC. Then NMFS determines the harvest limit in Area 543 by multiplying the percentage of Pacific cod estimated in Area 543 (15.7 percent) by the remaining ABC for AI Pacific cod. Based on these calculations, the Area 543 harvest limit is 2,233 mt for 2023 and 2024.

On March 21, 2019, the final rule adopting Amendment 113 to the FMP (81 FR 84434, November 23, 2016) was vacated by the U.S. District Court for the District of Columbia (Groundfish Forum v. Ross, No. 16-2495 (D.D.C. March 21, 2019)), and the corresponding regulations implementing Amendment 113 are no longer in effect. Therefore, this final rule is not specifying amounts for the AI Pacific Cod Catcher Vessel Harvest Set-Aside Program (see § 679.20(a)(7)(viii)). NMFS anticipates that in 2024 the regulations at § 679.20(a)(7)(viii) will be removed through implementation of the PCTC Program, if Amendment 122 and its regulations are approved by the Secretary of Commerce (described above in Other Actions Affecting the 2023 and 2024 Harvest Specifications).

Based on the final 2023 and 2024 Pacific cod TACs, Table 8 and Table 9 list the CDQ and non-CDQ TAC amounts; non-CDQ seasonal allowances by gear; the sector allocations of Pacific cod; and the seasons set forth at § 679.23(e)(5).

Table 8—Final 2023 Sector Allocations and Seasonal Allowances of the BSAI Pacific Cod TAC
[Amounts are in metric tons]
Sector | Percent | 2023 Share of total | 2023 Share of sector total | 2023 Seasonal apportionment: Season | 2023 Seasonal apportionment: Amount
BS TAC | n/a | 127,409 | n/a | n/a | n/a
BS CDQ | n/a | 13,633 | n/a | see § 679.20(a)(7)(i)(B) | n/a
BS non-CDQ TAC | n/a | 113,776 | n/a | n/a | n/a
AI TAC | n/a | 8,425 | n/a | n/a | n/a
AI CDQ | n/a | 901 | n/a | see § 679.20(a)(7)(i)(B) | n/a
AI non-CDQ TAC | n/a | 7,524 | n/a | n/a | n/a
Area 543 Western Aleutian Island Limit | n/a | 2,233 | n/a | n/a | n/a
Total BSAI non-CDQ TAC ¹ | 100 | 121,300 | n/a | n/a | n/a
Total hook-and-line/pot gear | 60.8 | 73,750 | n/a | n/a | n/a
Hook-and-line/pot ICA ² | n/a | 500 | n/a | see § 679.20(a)(7)(ii)(B) | n/a
Hook-and-line/pot sub-total | n/a | 73,250 | n/a | n/a | n/a
Hook-and-line catcher/processor | 48.7 | n/a | 58,672 | Jan 1-Jun 10 Jun 10-Dec 31 | 29,923 28,750
Hook-and-line catcher vessel ≥60 ft LOA | 0.2 | n/a | 241 | Jan 1-Jun 10 Jun 10-Dec 31 | 123 118
Pot catcher/processor | 1.5 | n/a | 1,807 | Jan 1-Jun 10 Sept 1-Dec 31 | 922 886
Pot catcher vessel ≥60 ft LOA | 8.4 | n/a | 10,120 | Jan 1-Jun 10 Sept 1-Dec 31 | 5,161 4,959
Catcher vessel <60 ft LOA using hook-and-line or pot gear | 2.0 | n/a | 2,410 | n/a | n/a
Trawl catcher vessel | 22.1 | 26,807 | n/a | Jan 20-Apr 1 Apr 1-Jun 10 Jun 10-Nov 1 | 19,837 2,949 4,021
AFA trawl catcher/processor | 2.3 | 2,790 | n/a | Jan 20-Apr 1 Apr 1-Jun 10 Jun 10-Nov 1 | 2,092 697
Amendment 80 | 13.4 | 16,254 | n/a | Jan 20-Apr 1 Apr 1-Jun 10 Jun 10-Dec 31 | 12,191 4,064
Jig | 1.4 | 1,698 | n/a | Jan 1-Apr 30 Apr 30-Aug 31 Aug 31-Dec 31 | 1,019 340 340
Note: Seasonal or sector apportionments may not total precisely due to rounding.
¹ The sector allocations and seasonal allowances for BSAI Pacific cod TAC are based on the sum of the BS and AI Pacific cod TACs, after the subtraction of the reserves for the CDQ program. If the TAC for Pacific cod in either the AI or BS is or will be reached, then directed fishing for non-CDQ Pacific cod in that subarea will be prohibited, even if a BSAI allowance remains (§ 679.20(d)(1)(iii)).
² The ICA for the hook-and-line and pot sectors will be deducted from the aggregate portion of Pacific cod TAC allocated to the hook-and-line and pot sectors. The Regional Administrator approves an ICA of 500 mt for 2023 based on anticipated incidental catch by these sectors in other fisheries.

Table 9—Final 2024 Sector Allocations and Seasonal Allowances of the BSAI Pacific Cod TAC
[Amounts are in metric tons]
Sector | Percent | 2024 Share total | 2024 Share of sector total | 2024 Seasonal apportionment: Season | 2024 Seasonal apportionment: Amount
BS TAC | n/a | 123,295 | n/a | n/a | n/a
BS CDQ | n/a | 13,193 | n/a | see § 679.20(a)(7)(i)(B) | n/a
BS non-CDQ TAC | n/a | 110,102 | n/a | n/a | n/a
AI TAC | n/a | 8,425 | n/a | n/a | n/a
AI CDQ | n/a | 901 | n/a | see § 679.20(a)(7)(i)(B) | n/a
AI non-CDQ TAC | n/a | 7,524 | n/a | n/a | n/a
Area 543 Western Aleutian Island Limit | n/a | 2,233 | n/a | n/a | n/a
Total BSAI non-CDQ TAC ¹ | n/a | 117,626 | n/a | n/a | n/a
Total hook-and-line/pot gear | 60.8 | 71,517 | n/a | n/a | n/a
Hook-and-line/pot ICA ² | n/a | 500 | n/a | see § 679.20(a)(7)(ii)(B) | n/a
Hook-and-line/pot sub-total | n/a | 71,017 | n/a | n/a | n/a
Hook-and-line catcher/processor | 48.7 | n/a | 56,883 | Jan 1-Jun 10 Jun 10-Dec 31 | 29,011 27,873
Hook-and-line catcher vessel ≥60 ft LOA | 0.2 | n/a | 234 | Jan 1-Jun 10 Jun 10-Dec 31 | 119 114
Pot catcher/processor | 1.5 | n/a | 1,752 | Jan 1-Jun 10 Sept 1-Dec 31 | 894 859
Pot catcher vessel ≥60 ft LOA | 8.4 | n/a | 9,812 | Jan 1-Jun 10 Sept 1-Dec 31 | 5,004 4,808
Catcher vessel <60 ft LOA using hook-and-line or pot gear | 2.0 | n/a | 2,336 | n/a | n/a
Trawl catcher vessel | 22.1 | 25,995 | n/a | Jan 20-Apr 1 Apr 1-Jun 10 Jun 10-Nov 1 | 19,237 2,859 3,899
AFA trawl catcher/processor | 2.3 | 2,705 | n/a | Jan 20-Apr 1 Apr 1-Jun 10 Jun 10-Nov 1 | 2,029 676
Amendment 80 | 13.4 | 15,762 | n/a | Jan 20-Apr 1 Apr 1-Jun 10 Jun 10-Dec 31 | 11,821 3,940
Jig | 1.4 | 1,647 | n/a | Jan 1-Apr 30 Apr 30-Aug 31 Aug 31-Dec 31 | 988 329 329
Note: Seasonal or sector apportionments may not total precisely due to rounding.
¹ The sector allocations and seasonal allowances for BSAI Pacific cod TAC are based on the sum of the BS and AI Pacific cod TACs, after the subtraction of the reserves for the CDQ program. If the TAC for Pacific cod in either the AI or BS is or will be reached, then directed fishing for non-CDQ Pacific cod in that subarea will be prohibited, even if a BSAI allowance remains (§ 679.20(d)(1)(iii)).
² The ICA for the hook-and-line and pot sectors will be deducted from the aggregate portion of Pacific cod TAC allocated to the hook-and-line and pot sectors. The Regional Administrator approves an ICA of 500 mt for 2024 based on anticipated incidental catch by these sectors in other fisheries.

Sablefish Gear Allocation

Sections 679.20(a)(4)(iii) and (iv) require allocation of the sablefish TAC for the BS and AI subareas between the trawl gear and fixed gear sectors. Gear allocations of the sablefish TAC for the BS are 50 percent for trawl gear and 50 percent for fixed gear. Gear allocations of the TAC for the AI are 25 percent for trawl gear and 75 percent for fixed gear. Section 679.20(b)(1)(ii)(B) requires that NMFS apportions 20 percent of the fixed gear allocation of sablefish TAC to the CDQ reserve for each subarea. Also, § 679.20(b)(1)(ii)(D)(1) requires that in the BS and AI 7.5 percent of the trawl gear allocation of sablefish TAC from the non-specified reserve, established under § 679.20(b)(1)(i), be assigned to the CDQ reserve.

The Council recommended that only trawl sablefish TAC be established biennially. The harvest specifications for the fixed gear sablefish Individual Fishing Quota (IFQ) fisheries are limited to the 2023 fishing year to ensure those fisheries are conducted concurrently with the halibut IFQ fishery. Concurrent sablefish and halibut IFQ fisheries reduce the potential for discards of halibut and sablefish in those fisheries. The sablefish IFQ fisheries remain closed at the beginning of each fishing year until the final harvest specifications for the sablefish IFQ fisheries are in effect. Table 10 lists the 2023 and 2024 gear allocations of the sablefish TAC and CDQ reserve amounts.

Table 10—Final 2023 and 2024 Gear Shares and CDQ Reserve of BSAI Sablefish TACs
[Amounts are in metric tons]
Subarea and gear | Percent of TAC | 2023 Share of TAC | 2023 ITAC | 2023 CDQ reserve | 2024 Share of TAC | 2024 ITAC | 2024 CDQ reserve
Bering Sea
Trawl gear ¹ | 50 | 3,998 | 3,398 | 300 | 4,838 | 4,112 | 363
Fixed gear ² | 50 | 3,998 | 3,198 | 800 | n/a | n/a | n/a
Total | 100 | 7,996 | 6,597 | 1,099 | 4,838 | 4,112 | 363
Aleutian Islands
Trawl gear ¹ | 25 | 2,110 | 1,794 | 158 | 2,448 | 2,081 | 184
Fixed gear ² | 75 | 6,330 | 5,064 | 1,266 | n/a | n/a | n/a
Total | 100 | 8,440 | 6,858 | 1,424 | 2,448 | 2,081 | 184
Note: Seasonal or sector apportionments may not total precisely due to rounding.
¹ For the sablefish TAC allocated to vessels using trawl gear, 15 percent of TAC is apportioned to the non-specified reserve (§ 679.20(b)(1)(i)). The ITAC for vessels using trawl gear is the remainder of the TAC after subtracting this reserve. In the BS and AI, 7.5 percent of the trawl gear allocation of the TAC is assigned from the non-specified reserve to the CDQ reserve (§ 679.20(b)(1)(ii)(D)(1)).
² For the portion of the sablefish TAC allocated to vessels using fixed gear, 20 percent of the allocated TAC for the BS and AI is reserved for use by CDQ participants (§ 679.20(b)(1)(ii)(B)). The ITAC for vessels using fixed gear is the remainder of the TAC after subtracting the CDQ reserve for each subarea. The Council recommended that specifications for the fixed gear sablefish IFQ fisheries be limited to 1 year.

Allocation of the AI Pacific Ocean Perch, and BSAI Flathead Sole, Rock Sole, and Yellowfin Sole TACs

Sections 679.20(a)(10)(i) and (ii) require that NMFS allocate AI Pacific ocean perch and BSAI flathead sole, rock sole, and yellowfin sole ITACs between the Amendment 80 sector and the BSAI trawl limited access sector, after subtracting 10.7 percent for the CDQ reserves and ICAs for the BSAI trawl limited access sector and vessels using non-trawl gear. The allocations of the ITACs for AI Pacific ocean perch and BSAI flathead sole, rock sole, and yellowfin sole to the Amendment 80 sector are established in accordance with Tables 33 and 34 to 50 CFR part 679 and § 679.91.

One Amendment 80 cooperative has formed for the 2023 fishing year. Because all Amendment 80 vessels are part of the sole Amendment 80 cooperative, no allocation to the Amendment 80 limited access sector is required for 2023. The 2024 allocations for Amendment 80 species between Amendment 80 cooperatives and the Amendment 80 limited access sector will not be known until eligible participants apply for participation in the program by November 1, 2023. Tables 11 and 12 list the 2023 and 2024 allocations of the AI Pacific ocean perch and BSAI flathead sole, rock sole, and yellowfin sole TACs.

Table 11—Final 2023 Community Development Quota (CDQ) Reserves, Incidental Catch Amounts (ICAs), and Amendment 80 Allocations of the Aleutian Islands Pacific Ocean Perch and BSAI Flathead Sole, Rock Sole, and Yellowfin Sole TACs
[Amounts are in metric tons]
Sector | Pacific ocean perch: Eastern Aleutian district | Pacific ocean perch: Central Aleutian district | Pacific ocean perch: Western Aleutian district | Flathead sole: BSAI | Rock sole: BSAI | Yellowfin sole: BSAI
TAC | 8,152 | 5,648 | 12,000 | 35,500 | 66,000 | 230,000
CDQ | 872 | 604 | 1,284 | 3,799 | 7,062 | 24,610
ICA | 100 | 60 | 10 | 3,000 | 6,000 | 4,000
BSAI trawl limited access | 718 | 498 | 214 |  |  | 45,498
Amendment 80 | 6,462 | 4,485 | 10,492 | 28,702 | 52,938 | 155,892
Note: Sector apportionments may not total precisely due to rounding.

Table 12—Final 2024 Community Development Quota (CDC) Reserves, Incidental Catch Amounts (ICAs), and Amendment 80 Allocations of the Aleutian Islands Pacific Ocean Perch and BSAI Flathead Sole, Rock Sole, and Yellowfin Sole TACs
[Amounts are in metric tons]
Sector | Pacific ocean perch: Eastern Aleutian district | Pacific ocean perch: Central Aleutian district | Pacific ocean perch: Western Aleutian district | Flathead sole: BSAI | Rock sole: BSAI | Yellowfin sole: BSAI
TAC | 8,013 | 5,551 | 13,000 | 35,500 | 66,000 | 230,656
CDQ | 857 | 594 | 1,391 | 3,799 | 7,062 | 24,680
ICA | 100 | 60 | 10 | 3,000 | 6,000 | 4,000
BSAI trawl limited access | 706 | 490 | 232 |  |  | 45,733
Amendment 80 ¹ | 6,350 | 4,407 | 11,367 | 28,702 | 52,938 | 156,243
Note: Sector apportionments may not total precisely due to rounding.
¹ The 2024 allocations for Amendment 80 species between Amendment 80 cooperatives and the Amendment 80 limited access sector will not be known until eligible participants apply for participation in the program by November 1, 2023.

Section 679.2 defines the ABC surplus for flathead sole, rock sole, and yellowfin sole as the difference between the annual ABC and TAC for each species. Section 679.20(b)(1)(iii) establishes ABC reserves for flathead sole, rock sole, and yellowfin sole. The ABC surpluses and the ABC reserves are necessary to mitigate the operational variability, environmental conditions, and economic factors that may constrain the CDQ groups and the Amendment 80 cooperatives from fully harvesting their allocations and to improve the likelihood of achieving and maintaining, on a continuing basis, the optimum yield in the BSAI groundfish fisheries. NMFS, after consultation with the Council, may set the ABC reserve at or below the ABC surplus for each species, thus maintaining the TAC at or below ABC limits. An amount equal to 10.7 percent of the ABC reserves will be allocated as CDQ ABC reserves for flathead sole, rock sole, and yellowfin sole. Section 679.31(b)(4) establishes the annual allocations of CDQ ABC reserves among the CDQ groups. The Amendment 80 ABC reserves are the ABC reserves minus the CDQ ABC reserves. Section 679.91(i)(2) establishes Amendment 80 cooperatives ABC reserve to be the ratio of each cooperatives' quota share units and the total Amendment 80 quota share units, multiplied by the Amendment 80 ABC reserve for each respective species. Table 13 lists the 2023 and 2024 ABC surplus and ABC reserves for BSAI flathead sole, rock sole, and yellowfin sole.

Table 13—Final 2023 and 2024 ABC Surplus, ABC Reserves, Community Development Quota (CDQ) ABC Reserves, and Amendment 80 ABC Reserves in the BSAI for Flathead Sole, Rock Sole, and Yellowfin Sole
[Amounts are in metric tons]
Sector | 2023 Flathead sole | 2023 Rock sole | 2023 Yellowfin sole | 2024 ¹ Flathead sole | 2024 ¹ Rock sole | 2024 ¹ Yellowfin sole
ABC | 65,344 | 121,719 | 378,499 | 66,927 | 119,969 | 462,890
TAC | 35,500 | 66,000 | 230,000 | 35,500 | 66,000 | 230,656
ABC surplus | 29,844 | 55,719 | 148,499 | 31,427 | 53,969 | 232,234
ABC reserve | 29,844 | 55,719 | 148,499 | 31,427 | 53,969 | 232,234
CDQ ABC reserve | 3,193 | 5,962 | 15,889 | 3,363 | 5,775 | 24,849
Amendment 80 ABC reserve | 26,651 | 49,757 | 132,610 | 28,064 | 48,194 | 207,385
¹ The 2024 allocations for Amendment 80 species between Amendment 80 cooperatives and the Amendment 80 limited access sector will not be known until eligible participants apply for participation in the program by November 1, 2023.

PSC Limits for Halibut, Salmon, Crab, and Herring

Section 679.21, at paragraphs (b), (e), (f), and (g), sets forth the BSAI PSC limits. Pursuant to § 679.21(b)(1), the annual BSAI halibut PSC limits total 3,515 mt. Section 679.21(b)(1) allocates 315 mt of the halibut PSC limit as the PSQ reserve for use by the groundfish CDQ Program, 1,745 mt of the halibut PSC limit for the Amendment 80 sector, 745 mt of the halibut PSC limit for the BSAI trawl limited access sector, and 710 mt of the halibut PSC limit for the BSAI non-trawl sector.

Section 679.21(b)(1)(iii)(A) and (B) requires apportionment of the BSAI non-trawl halibut PSC limit into PSC allowances among six fishery categories in Table 17, and § 679.21(b)(1)(ii)(A) and (B), (e)(3)(i)(B), and (e)(3)(iv) requires apportionment of the trawl PSC limits in Tables 15 and 16 into PSC allowances among seven fishery categories. These apportionments into PSC allowances are based on the fishery categories' share of anticipated halibut PSC during the fishing year and the need to optimize the amount of total groundfish harvested under the halibut PSC limit for the non-trawl and trawl sectors.

Pursuant to Section 3.6 of the FMP, the Council recommends, and NMFS agrees, that certain specified non-trawl fisheries be exempt from the halibut PSC limit. As in past years, after consultation with the Council, NMFS exempts the pot gear fishery, the jig gear fishery, and the sablefish IFQ fixed gear fishery categories from halibut bycatch restrictions for the following reasons: (1) the pot gear fisheries have low halibut bycatch mortality; (2) NMFS estimates halibut mortality for the jig gear fleet to be negligible because of the small size of the fishery and the selectivity of the gear; and (3) the sablefish and halibut IFQ fisheries have low halibut bycatch mortality because the IFQ program requires that legal-size halibut be retained by vessels using fixed gear if a halibut IFQ permit holder or a hired master is aboard and is holding unused halibut IFQ for that vessel category and the IFQ regulatory area in which the vessel is operating (§ 679.7(f)(11)).

The 2022 total groundfish catch for the pot gear fishery in the BSAI was 21,177 mt, with an associated halibut bycatch mortality of 25 mt. The 2022 jig gear fishery harvested no groundfish. Most vessels in the jig gear fleet are exempt from observer coverage requirements. As a result, observer data are not available on halibut bycatch in the jig gear fishery. As mentioned above, NMFS estimates a negligible amount of halibut bycatch mortality because of the selective nature of jig gear and the low mortality rate of halibut caught with jig gear and released.

Under § 679.21(f)(2), NMFS annually allocates portions of either 33,318, 45,000, 47,591, or 60,000 Chinook salmon PSC limits among the AFA sectors, depending on past bycatch performance, on whether Chinook salmon bycatch incentive plan agreements (IPAs) are formed and approved by NMFS, and on whether NMFS determines it is a low Chinook salmon abundance year. NMFS will determine that it is a low Chinook salmon abundance year when abundance of Chinook salmon in western Alaska is less than or equal to 250,000 Chinook salmon. The State of Alaska provides to NMFS an estimate of Chinook salmon abundance using the 3-System Index for western Alaska based on the Kuskokwim, Unalakleet, and Upper Yukon aggregate stock grouping.

If an AFA sector participates in an approved IPA and has not exceeded its performance standard under § 679.21(f)(6), and if it is not a low Chinook salmon abundance year, then NMFS will allocate a portion of the 60,000 Chinook salmon PSC limit to that sector as specified in § 679.21(f)(3)(iii)(A). If no IPA is approved, or if the sector has exceeded its performance standard under § 679.21(f)(6), and if it is not a low abundance year, then NMFS will allocate a portion of the 47,591 Chinook salmon PSC limit to that sector as specified in § 679.21(f)(3)(iii)(C). If an AFA sector participates in an approved IPA and has not exceeded its performance standard under § 679.21(f)(6), in a low abundance year, then NMFS will allocate a portion of the 45,000 Chinook salmon PSC limit to that sector as specified in § 679.21(f)(3)(iii)(B). If no IPA is approved, or if the sector has exceeded its performance standard under § 679.21(f)(6), and if in a low abundance year, then NMFS will allocate a portion of the 33,318 Chinook salmon PSC limit to that sector as specified in § 679.21(f)(3)(iii)(D).

NMFS has determined that 2022 was a low Chinook salmon abundance year, based on the State's estimate that Chinook salmon abundance in western Alaska is less than 250,000 Chinook salmon. Therefore, in 2023, the Chinook salmon PSC limit is 45,000 Chinook salmon, allocated to each sector as specified in § 679.21(f)(3)(iii)(B). The AFA sector Chinook salmon PSC allocations are also seasonally apportioned with 70 percent for the A season pollock fishery, and 30 percent for the B season pollock fishery (§§ 679.21(f)(3)(i) and 679.23(e)(2)). In 2023, the Chinook salmon bycatch performance standard under § 679.21(f)(6) is 33,318 Chinook salmon, allocated to each sector as specified in § 679.21(f)(3)(iii)(D).

NMFS publishes the approved IPAs, allocations, and reports at https://alaskafisheries.noaa.gov/sustainablefisheries/bycatch/default.htm.

Section 679.21(g)(2)(i) specifies 700 fish as the 2023 and 2024 Chinook salmon PSC limit for the AI pollock fishery. Section 679.21(g)(2)(ii) allocates 7.5 percent, or 53 Chinook salmon, as the AI PSQ reserve for the CDQ program, and allocates the remaining 647 Chinook salmon to the non-CDQ fisheries.

Section 679.21(f)(14)(i) specifies 42,000 fish as the 2023 and 2024 non-Chinook salmon PSC limit for vessels using trawl gear from August 15 through October 14 in the Catcher Vessel Operational Area (CVOA). Section 679.21(f)(14)(ii) allocates 10.7 percent, or 4,494 non-Chinook salmon, in the CVOA as the PSQ reserve for the CDQ program, and allocates the remaining 37,506 non-Chinook salmon in the CVOA to the non-CDQ fisheries. Section 679.21(f)(14)(iv) exempts from closures in the Chum Salmon Savings Area trawl vessels participating in directed fishing for pollock and operating under an IPA approved by NMFS.

PSC limits for crab and herring are specified annually based on abundance and spawning biomass. Section 679.21(e)(3)(i)(A)(1) allocates 10.7 percent from each trawl gear PSC limit specified for crab as a PSQ reserve for use by the groundfish CDQ program.

Based on the most recent (2022) survey data, the red king crab mature female abundance is estimated at 8.004 million red king crabs, and the effective spawning biomass is estimated at 19.607 million lbs (8,894 mt). Based on the criteria set out at § 679.21(e)(1)(i), the 2023 and 2024 PSC limit of red king crab in Zone 1 for trawl gear is 32,000 animals. This limit derives from the mature female abundance estimate below 8.4 million mature red king crab.

Section 679.21(e)(3)(ii)(B)(2) establishes criteria under which NMFS must specify an annual red king crab bycatch limit for the Red King Crab Savings Subarea (RKCSS) if the State has established a GHL fishery for red king crab in the Bristol Bay area in the previous year. The State's Department of Fish and Game (ADF&G) and NMFS have reviewed the final 2022 NMFS trawl survey data for the Bristol Bay red king crab stock. The stock is estimated to be below the regulatory threshold for opening a fishery. Therefore, the State did not establish a GHL for the Bristol Bay red king crab fishery, and the fishery will remain closed for the 2022/2023 crab season. Since the State did not establish a GHL, NMFS and the Council will not specify an amount of the red king crab bycatch limit, annually established under § 679.21(e)(1)(i), for the RKCSS for 2023. Also, NMFS closed directed fishing for groundfish for vessels using non-pelagic trawl gear in the RKCSS for 2023 (88 FR 3930, January 23, 2023). NMFS and the Council will assess the RKCSS bycatch limit and closure for 2024 based on whether the State's ADF&G establishes a GHL for the 2023/2024 red king crab fishery in the Bristol Bay area.

Based on the most recent (2022) survey data, Tanner crab (Chionoecetes bairdi) abundance is estimated at 381 million animals. Pursuant to criteria set out at § 679.21(e)(1)(ii), the calculated 2023 and 2024 C. bairdi crab PSC limit for trawl gear is 830,000 animals in Zone 1, and 2,520,000 animals in Zone 2. The limit in Zone 1 is based on the abundance of C. bairdi estimated at 381 million animals, which is greater than 270 million animals but less than 400 million animals. The limit in Zone 2 is based on the abundance of C. bairdi estimated at 381 million animals, which is greater than 290 million animals but less than 400 million animals.

Pursuant to § 679.21(e)(1)(iii), the PSC limit for trawl gear for snow crab (Chionoecetes opilio) is based on total abundance as indicated by the NMFS annual bottom trawl survey. The C. opilio crab PSC limit in the C. opilio bycatch limitation zone (COBLZ) is set at 0.1133 percent of the BS abundance index minus 150,000 crabs, unless the minimum or maximum PSC limit applies. Based on the most recent (2022) survey estimate of 2.584 billion animals, the calculated C. opilio crab PSC limit is 2,927,672 animals. Because 0.1133 percent multiplied by the total abundance is less than 4.5 million, the minimum PSC limit applies and the PSC limit will be 4.350 million animals.

Pursuant to § 679.21(e)(1)(v), the PSC limit of Pacific herring caught while conducting any trawl operation for BSAI groundfish is 1 percent of the annual eastern BS herring biomass. The best estimate of 2023 and 2024 herring biomass is 344,379 mt. This amount was developed by ADF&G based on biomass for spawning aggregations. Therefore, the herring PSC limit for 2023 and 2024 is 3,444 mt for all trawl gear as listed in Tables 14 and 15.

Section 679.21(e)(3)(i)(A) requires that crab PSQ reserves be subtracted from the total trawl gear crab PSC limits. The crab and halibut PSC limits apportioned to the Amendment 80 and BSAI trawl limited access sectors are listed in Table 35 to 50 CFR part 679. The resulting 2023 and 2024 allocations of PSC limit to CDQ PSQ reserves, the Amendment 80 sector, and the BSAI trawl limited access sector are listed in Table 14. Pursuant to §§ 679.21(b)(1)(i), 679.21(e)(3)(vi), and 679.91(d) through (f), crab and halibut trawl PSC limits assigned to the Amendment 80 sector are then further allocated to Amendment 80 cooperatives as cooperative quota. Crab and halibut PSC cooperative quota assigned to Amendment 80 cooperatives is not allocated to specific fishery categories. In 2023, there are no vessels in the Amendment 80 limited access sector and there is one Amendment 80 cooperative. The 2024 PSC allocations between Amendment 80 cooperatives and the Amendment 80 limited access sector will not be known until eligible participants apply for participation in the program by November 1, 2023.

Sections 679.21(b)(2) and (e)(5) authorize NMFS, after consulting with the Council, to establish seasonal apportionments of halibut and crab PSC amounts for the BSAI trawl limited access and non-trawl sectors to maximize the ability of the fleet to harvest the available groundfish TAC and to minimize bycatch. The factors to be considered are: (1) seasonal distribution of prohibited species, (2) seasonal distribution of target groundfish species relative to prohibited species distribution, (3) PSC bycatch needs on a seasonal basis relevant to prohibited species biomass and expected catches of target groundfish species, (4) expected variations in bycatch rates throughout the year, (5) expected changes in directed groundfish fishing seasons, (6) expected start of fishing effort, and (7) economic effects of establishing seasonal prohibited species apportionments on segments of the target groundfish industry. Based on this criteria, the Council recommended and NMFS approves the seasonal PSC apportionments in Tables 16 and 17 to maximize harvest among gear types, fisheries, and seasons while minimizing bycatch of PSC.

Table 14—Final 2023 and 2024 Apportionment of Prohibited Species Catch Allowances to Non-Trawl Gear, the CDQ Program, Amendment 80, and the BSAI Trawl Limited Access Sectors
PSC species and area and zone ¹ | Total PSC | Non-trawl PSC | CDQ PSQ reserve ² | Trawl PSC remaining after CDQ PSQ | Amendment 80 sector ³ | BSAI trawl limited access sector | BSAI PSC limits not allocated ³
Halibut mortality (mt) BSAI | 3,515 | 710 | 315 | n/a | 1,745 | 745 |
Herring (mt) BSAI | 3,444 | n/a | n/a | n/a | n/a | n/a |
Red king crab (animals) Zone 1 | 32,000 | n/a | 3,424 | 28,576 | 14,282 | 8,739 | 5,555
C. opilio (animals) COBLZ | 4,350,000 | n/a | 465,450 | 3,884,550 | 1,909,256 | 1,248,494 | 726,799
C. bairdi crab (animals) Zone 1 | 830,000 | n/a | 88,810 | 741,190 | 312,115 | 348,285 | 80,790
C. bairdi crab (animals) Zone 2 | 2,520,000 | n/a | 269,640 | 2,250,360 | 532,660 | 1,053,394 | 664,306
¹ Refer to § 679.2 for definitions of areas and zones.
² The PSQ reserve for crab species is 10.7 percent of each crab PSC limit.
³ The Amendment 80 Program reduced apportionment of the trawl PSC limits for crab below the total PSC limit. These reductions are not apportioned to other gear types or sectors.

Table 15—Final 2023 and 2024 Herring and Red King Crab Savings Subarea Prohibited Species Catch Allowances for all Trawl Sectors
Fishery categories | Herring (mt) BSAI | Red king crab (animals) zone 1
Yellowfin sole | 200 | n/a
Rock sole/flathead sole/Alaska plaice/other flatfish ¹ | 99 | n/a
Greenland turbot/arrowtooth flounder/Kamchatka flounder/sablefish | 10 | n/a
Rockfish | 10 | n/a
Pacific cod | 18 | n/a
Midwater trawl pollock | 3,066 | n/a
Pollock/Atka mackerel/other species ² ³ | 41 | n/a
2023 Red king crab savings subarea non-pelagic trawl gear ⁴ | n/a | 0
2024 Red king crab savings subarea non-pelagic trawl gear ⁵ | n/a | 8,000
Total trawl PSC | 3,444 | 32,000
Note: Species allowances may not total precisely due to rounding.
¹ “Other flatfish” for PSC monitoring includes all flatfish species, except for halibut (a prohibited species), Alaska plaice, arrowtooth flounder, flathead sole, Greenland turbot, Kamchatka flounder, rock sole, and yellowfin sole.
² Pollock other than midwater trawl pollock, Atka mackerel, and “other species” fishery category.
³ “Other species” for PSC monitoring includes skates, sharks, and octopuses.
⁴ Section 679.21(e)(3)(ii)(B) establishes criteria under which an annual red king crab bycatch limit must be specified for the Red King Crab Savings Subarea (RKCSS) if the State has established a GHL fishery for red king crab in the Bristol Bay area in the previous year. Based on the final 2022 NMFS trawl survey data for the Bristol Bay red king crab stock, the State of Alaska closed the Bristol Bay red king crab fishery for the 2022/2023 crab season. NMFS and the Council will not specify the red king crab bycatch limit for the RKCSS in 2023, and pursuant to § 679.21(e)(3)(ii)(B)(1) directed fishing for groundfish is prohibited for vessels using non-pelagic trawl gear in the RKCSS for 2023.
⁵ If the Bristol Bay red king crab fishery remains closed in the 2023/2024 crab season, NMFS and the Council will not specify the red king crab bycatch limit for the RKCSS in 2024. If the Bristol Bay red king crab fishery is open in the 2023/2024 crab season, NMFS, after consultation with the Council, will specify an annual red king crab bycatch limit for the RKCSS, which is limited by regulation to up to 25 percent of the red king crab PSC allowance and based on the need to optimize groundfish harvest relative to red king crab bycatch (§ 679.21(e)(3)(ii)(B)(2)).

Table 16—Final 2023 and 2024 Prohibited Species Bycatch Allowances for the BSAI Trawl Limited Access Sector
BSAI trawl limited access fisheries | Prohibited species and area and zone ¹: Halibut mortality (mt) BSAI | Prohibited species and area and zone ¹: Red king crab (animals) zone 1 | Prohibited species and area and zone ¹: C. opilio (animals) COBLZ | Prohibited species and area and zone ¹: C. bairdi (animals): Zone 1 | Prohibited species and area and zone ¹: C. bairdi (animals): Zone 2
Yellowfin sole | 265 | 7,700 | 1,192,179 | 293,234 | 1,005,879
Rock sole/flathead sole/Alaska plaice/other flatfish ² |  |  |  |  |
Greenland turbot/arrowtooth flounder/Kamchatka flounder/sablefish |  |  |  |  |
Rockfish April 15-December 31 | 5 |  | 1,006 |  | 849
Pacific cod | 300 | 975 | 50,281 | 50,816 | 42,424
Pollock/Atka mackerel/other species ³ | 175 | 65 | 5,028 | 4,235 | 4,243
Total BSAI trawl limited access PSC | 745 | 8,739 | 1,248,494 | 348,285 | 1,053,394
Note: Seasonal or sector allowances may not total precisely due to rounding.
¹ Refer to § 679.2 for definitions of areas and zones.
² “Other flatfish” for PSC monitoring includes all flatfish species, except for halibut (a prohibited species), Alaska plaice, arrowtooth flounder, flathead sole, Greenland turbot, Kamchatka flounder, rock sole, and yellowfin sole.
³ “Other species” for PSC monitoring includes skates, sharks, and octopuses.

Table 17—Final 2023 And 2024 Halibut Prohibited Species Bycatch Allowances for Non-Trawl Fisheries
Halibut mortality (mt) BSAI: Non-trawl fisheries | Halibut mortality (mt) BSAI: Seasons | Halibut mortality (mt) BSAI: Catcher/ processor | Halibut mortality (mt) BSAI: Catcher vessel | Halibut mortality (mt) BSAI: All non-trawl
Pacific cod | Total Pacific cod | 648 | 13 | 661.
| January 1-June 10 | 388 | 9 | n/a.
| June 10-August 15 | 162 | 2 | n/a.
| August 15-December 31 | 98 | 2 | n/a.
Non-Pacific cod non-trawl-Total | May 1-December 31 | n/a | n/a | 49.
Groundfish pot and jig | n/a | n/a | n/a | Exempt.
Sablefish fixed gear | n/a | n/a | n/a | Exempt.
Total for all non-trawl PSC | n/a | n/a | n/a | 710.
Note: Seasonal or sector allowances may not total precisely due to rounding.

Estimates of Halibut Biomass and Stock Condition

The IPHC annually assesses the abundance and potential yield of the Pacific halibut stock using all available data from the commercial and sport fisheries, other removals, and scientific surveys. Additional information on the Pacific halibut stock assessment may be found in the IPHC's 2022 Pacific halibut stock assessment (December 2022), available on the IPHC website at www.iphc.int. The IPHC considered the 2022 Pacific halibut stock assessment at its January 2023 annual meeting when it set the 2023 commercial halibut fishery catch limits.

Halibut Discard Mortality Rates (DMRs)

To monitor halibut bycatch mortality allowances and apportionments, the Regional Administrator uses observed halibut incidental catch rates, DMRs, and estimates of groundfish catch to project when a fishery's halibut bycatch mortality allowance or seasonal apportionment is reached. Halibut incidental catch rates are based on observed estimates of halibut incidental catch in the groundfish fishery. DMRs are estimates of the proportion of incidentally caught halibut that do not survive after being returned to the sea. The cumulative halibut mortality that accrues to a particular halibut PSC limit is the product of a DMR multiplied by the estimated halibut PSC. DMRs are estimated using the best scientific information available in conjunction with the annual BSAI stock assessment process. The DMR methodology and findings are included as an appendix to the annual BSAI groundfish SAFE report.

In 2016, the DMR estimation methodology underwent revisions per the Council's directive. An interagency halibut working group (IPHC, Council, and NMFS staff) developed improved estimation methods that have undergone review by the Plan Team, SSC, and the Council. A summary of the revised methodology is included in the BSAI proposed 2017 and 2018 harvest specifications (81 FR 87863, December 6, 2016), and the comprehensive discussion of the working group's statistical methodology is available from the Council (see ADDRESSES). The DMR working group's revised methodology is intended to improve estimation accuracy, transparency, and transferability used for calculating DMRs. The working group will continue to consider improvements to the methodology used to calculate halibut mortality, including potential changes to the reference period (the period of data used for calculating the DMRs). The methodology continues to ensure that NMFS is using DMRs that accurately reflect halibut mortality, which will inform the sectors of their estimated halibut mortality and allow sectors to respond with methods that could reduce mortality and, eventually, the DMR for that sector.

At the December 2022 meeting, the SSC, AP, and the Council concurred with the revised DMR estimation methodology, and NMFS adopts for 2023 and 2024 the DMRs calculated under the revised methodology, which uses an updated 2-year reference period. The final 2023 and 2024 DMRs in this rule are unchanged from the DMRs in the proposed 2023 and 2024 harvest specifications (87 FR 76435, December 14, 2022). Table 18 lists these final 2023 and 2024 DMRs.

Table 18—2023 and 2024 Pacific Halibut Discard Mortality Rates (DMR) for the BSAI
Gear | Sector | Halibut discard mortality rate (percent)
Pelagic trawl | All | 100
Non-pelagic trawl | Mothership and catcher/processor | 85
Non-pelagic trawl | Catcher vessel | 62
Hook-and-line | Catcher/processor | 9
Hook-and-line | Catcher vessel | 9
Pot | All | 26

Directed Fishing Closures

In accordance with § 679.20(d)(1)(i), the Regional Administrator may establish a DFA for a species or species group if the Regional Administrator determines that any allocation or apportionment of a target species has been or will be reached. If the Regional Administrator establishes a DFA, and that allowance is or will be reached before the end of the fishing year, NMFS will prohibit directed fishing for that species or species group in the specified subarea, regulatory area, or district (see § 679.20(d)(1)(iii)). Similarly, pursuant to § 679.21(b)(4) and (e)(7), if the Regional Administrator determines that a fishery category's bycatch allowance of halibut, red king crab, C. bairdi crab, or C. opilio crab for a specified area has been reached, the Regional Administrator will prohibit directed fishing for each species or species group in that fishery category in the area specified by regulation for the remainder of the season or fishing year.

Based on historical catch patterns and anticipated fishing activity, the Regional Administrator has determined that the groundfish allocation amounts in Table 19 will be necessary as incidental catch to support other anticipated groundfish fisheries for the 2023 and 2024 fishing years. Consequently, in accordance with § 679.20(d)(1)(i), the Regional Administrator establishes the DFA for the species and species groups in Table 19 as zero mt. Therefore, in accordance with § 679.20(d)(1)(iii), NMFS is prohibiting directed fishing for these sectors and species or species groups in the specified areas effective at 1200 hours, A.l.t., March 10, 2023, through 2400 hours, A.l.t., December 31, 2024. Also, for the BSAI trawl limited access sector, bycatch allowances of halibut, red king crab, C. bairdi crab, and C. opilio crab listed in Table 19 are insufficient to support directed fisheries. Therefore, in accordance with § 679.21(b)(4)(i) and (e)(7), NMFS is prohibiting directed fishing for these sectors, species, and fishery categories in the specified areas effective at 1200 hours, A.l.t., March 10, 2023, through 2400 hours, A.l.t., December 31, 2024.

Table 19—2023 and 2024 Directed Fishing Closures ¹
[Groundfish and halibut amounts are in metric tons. Crab amounts are in number of animals.]
Area | Sector | Species | 2023 Incidental catch allowance | 2024 Incidental catch allowance
Bogoslof District | All | Pollock | 300 | 300
Aleutian Islands subarea | All | Greenland Turbot | 529 | 449
Aleutian Islands subarea | All | ICA pollock “Other rockfish”² | 2,500 380 | 2,500 380
Aleutian Islands subarea | Trawl non-CDQ | Sablefish | 1,794 | 2,081
Eastern Aleutian District/Bering Sea | Non-amendment 80, CDQ, and BSAI trawl limited access | ICA Atka mackerel | 800 | 800
Eastern Aleutian District/Bering Sea | All | Blackspotted/Rougheye rockfish | 305 | 330
Eastern Aleutian District | Non-amendment 80, CDQ, and BSAI trawl limited access | ICA Pacific ocean perch | 100 | 100
Central Aleutian District | Non-amendment 80, CDQ, and BSAI trawl limited access | ICA Atka mackerel ICA Pacific ocean perch | 75 60 | 75 60
Western Aleutian District | Non-amendment 80, CDQ and BSAI trawl limited access | ICA Atka mackerel ICA Pacific ocean perch | 20 10 | 20 10
Western and Central Aleutian Districts | All | Blackspotted/Rougheye rockfish | 141 | 155
Bering Sea subarea | Trawl non-CDQ | Sablefish | 3,398 | 4,112
Bering Sea subarea | All | Pacific ocean perch “Other rockfish” ² ICA pollock | 10,118 748 50,000 | 9,945 748 50,000
Bering Sea and Aleutian Islands |  | Shortraker rockfish Skates Sharks Octopuses | 451 23,325 213 340 | 451 23,738 213 340
| Hook-and-line and pot gear | ICA Pacific cod | 500 | 500
| All | ICA flathead sole ICA rock sole | 3,000 6,000 | 3,000 6,000
| All | ICA yellowfin sole | 4,000 | 4,000
| BSAI trawl limited access | Rock sole/flathead sole/other flatfish—halibut mortality, red king crab Zone 1, C. opilio COBLZ, C. bairdi Zone 1 and 2 |  |
|  | Turbot/arrowtooth/Kamchatka/sablefish—halibut mortality, red king crab Zone 1, C. opilio COBLZ, C. bairdi Zone 1 and 2 |  |
|  | Rockfish—red king crab Zone 1 |  |
¹ Maximum retainable amounts may be found in Table 11 to 50 CFR part 679.
² “Other rockfish” includes all Sebastes and Sebastolobus species except for dark rockfish, Pacific ocean perch, northern rockfish, blackspotted/rougheye rockfish, and shortraker rockfish.

Closures implemented under the final 2022 and 2023 BSAI harvest specifications for groundfish (87 FR 11626, March 2, 2022) remain effective under authority of these final 2023 and 2024 harvest specifications and until the date specified in those closure notifications. Closures are posted at the following website under the Alaska filter for Management Area: https://www.fisheries.noaa.gov/rules-and-announcements/bulletins. While these closures are in effect, the maximum retainable amounts at § 679.20(e) and (f) apply at any time during a fishing trip. These closures to directed fishing are in addition to closures and prohibitions found at 50 CFR part 679.

Listed AFA Catcher/Processor Sideboard Limits

Pursuant to § 679.64(a), the Regional Administrator is responsible for restricting the ability of listed AFA CPs to engage in directed fishing for groundfish species other than pollock to protect participants in other groundfish fisheries from adverse effects resulting from the AFA fishery and from fishery cooperatives in the directed pollock fishery. These restrictions are set out as sideboard limits on catch. On February 8, 2019, NMFS published a final rule (84 FR 2723) that implemented regulations to prohibit non-exempt AFA CPs from directed fishing for all groundfish species or species groups subject to sideboard limits (see § 679.20(d)(1)(iv)(D) and Table 54 to 50 CFR part 679). Section 679.64(a)(1)(v) exempts AFA CPs from a yellowfin sole sideboard limit because the final 2023 and 2024 aggregate ITAC of yellowfin sole assigned to the Amendment 80 sector and BSAI trawl limited access sector is greater than 125,000 mt.

Section 679.64(a)(2) and Tables 40 and 41 to 50 CFR part 679 establish a formula for calculating PSC sideboard limits for halibut and crab caught by listed AFA CPs. The basis for these sideboard limits is described in detail in the final rules implementing the major provisions of the AFA (67 FR 79692, December 30, 2002) and Amendment 80 (72 FR 52668, September 14, 2007). PSC species listed in Table 20 that are caught by listed AFA CPs participating in any groundfish fishery other than pollock will accrue against the final 2023 and 2024 PSC sideboard limits for the listed AFA CPs. Section 679.21(b)(4)(iii), (e)(3)(v), and (e)(7) authorizes NMFS to close directed fishing for groundfish other than pollock for listed AFA CPs once a final 2023 or 2024 PSC sideboard limit listed in Table 20 is reached. Pursuant to § 679.21(b)(1)(ii)(C) and (e)(3)(ii)(C), halibut or crab PSC by listed AFA CPs while fishing for pollock will accrue against the PSC allowances annually specified for the pollock/Atka mackerel/“other species” fishery categories, according to § 679.21(b)(1)(ii)(B) and (e)(3)(iv).

Table 20—Final 2023 and 2024 BSAI AFA Listed Catcher/Processor Prohibited Species Sideboard Limits
PSC species and area ¹ | Ratio of PSC catch to total PSC | 2023 and 2024 PSC available to trawl vessels after subtraction of PSQ ² | 2023 and 2024 AFA catcher/ processor sideboard limit ²
Halibut mortality BSAI | n/a | n/a | 286
Red king crab Zone 1 | 0.0070 | 28,576 | 200
C. opilio (COBLZ) | 0.1530 | 3,884,550 | 594,336
C. bairdi Zone 1 | 0.1400 | 741,190 | 103,767
C. bairdi Zone 2 | 0.0500 | 2,250,360 | 112,518
¹ Refer to § 679.2 for definitions of areas.
² Halibut amounts are in metric tons of halibut mortality. Crab amounts are in numbers of animals.

AFA Catcher Vessel Sideboard Limits

Pursuant to § 679.64(b), the Regional Administrator is responsible for restricting the ability of AFA CVs to engage in directed fishing for groundfish species other than pollock to protect participants in other groundfish fisheries from adverse effects resulting from the AFA fishery and from fishery cooperatives in the pollock directed fishery. On February 8, 2019, NMFS published a final rule (84 FR 2723) that implemented regulations to prohibit non-exempt AFA CVs from directed fishing for a majority of the groundfish species or species groups subject to sideboard limits (see § 679.20(d)(1)(iv)(D) and Table 55 to 50 CFR part 679). Section 679.64(b)(6) exempts AFA CVs from a yellowfin sole sideboard limit because the final 2023 and 2024 aggregate ITAC of yellowfin sole assigned to the Amendment 80 sector and BSAI trawl limited access sector is greater than 125,000 mt. The remainder of the sideboard limits for non-exempt AFA CVs are in Table 21.

Section 679.64(b)(3) and (b)(4) and Tables 40 and 41 to 50 CFR part 679 establish formulas for setting AFA CV groundfish and halibut and crab PSC sideboard limits for the BSAI. The basis for these sideboard limits is described in detail in the final rules implementing the major provisions of the AFA (67 FR 79692, December 30, 2002) and Amendment 80 (72 FR 52668, September 14, 2007). Table 21 lists the final 2023 and 2024 AFA CV groundfish sideboard limits.

Table 21—Final 2023 and 2024 BSAI Pacific Cod Sideboard Limits for American Fisheries Act Catcher Vessels (CVs)
[Amounts are in metric tons]
Fishery by area/gear/season | Ratio of 1997 AFA CV catch to 1997 TAC | 2023 initial TAC | 2023 AFA catcher vessel sideboard limits | 2024 initial TAC | 2024 AFA catcher vessel sideboard limits
BSAI | n/a | n/a | n/a | n/a | n/a
Trawl gear CV | n/a | n/a | n/a | n/a | n/a
Jan 20-Apr 1 | 0.8609 | 19,837 | 17,078 | 19,237 | 16,561
Apr 1-Jun 10 | 0.8609 | 2,949 | 2,539 | 2,859 | 2,461
Jun 10-Nov 1 | 0.8609 | 4,021 | 3,462 | 3,899 | 3,357
Note: Section 679.64(b)(6) exempts AFA catcher vessels from a yellowfin sole sideboard limit because the 2023 and 2024 aggregate ITAC of yellowfin sole assigned to the Amendment 80 sector and BSAI trawl limited access sector is greater than 125,000 mt.

Halibut and crab PSC limits listed in Table 22 that are caught by AFA CVs participating in any groundfish fishery other than pollock will accrue against the 2023 and 2024 PSC sideboard limits for the AFA CVs. Section 679.21, at (b)(4)(iii), (e)(3)(v), and (e)(7), authorizes NMFS to close directed fishing for groundfish other than pollock for AFA CVs once a final 2023 or 2024 PSC sideboard limit listed in Table 22 is reached. Pursuant to § 679.21(b)(1)(ii)(C) and (e)(3)(ii)(C), halibut or crab PSC by AFA CVs while fishing for pollock will accrue against the PSC allowances annually specified for the pollock/Atka mackerel/“other species” fishery categories under § 679.21(b)(1)(ii)(B) and (e)(3)(iv).

Table 22—Final 2023 and 2024 American Fisheries Act Catcher Vessel Prohibited Species Catch Sideboard Limits for the BSAI ¹
PSC species and area ¹ | Target fishery category ² | AFA catcher vessel PSC sideboard limit ratio | 2023 and 2024 PSC limit after subtraction of PSQ reserves ³ | 2023 and 2024 AFA catcher vessel PSC sideboard limit ³
Halibut | Pacific cod trawl | n/a | n/a | 887
| Pacific cod hook-and-line or pot | n/a | n/a | 2
| Yellowfin sole total | n/a | n/a | 101
| Rock sole/flathead sole/Alaska plaice/other flatfish ⁴ | n/a | n/a | 228
| Greenland turbot/arrowtooth/Kamchatka/sablefish | n/a | n/a |
| Rockfish | n/a | n/a | 2
| Pollock/Atka mackerel/other species ⁵ | n/a | n/a | 5
Red king crab Zone 1 | n/a | 0.2990 | 28,576 | 8,544
C. opilio COBLZ | n/a | 0.1680 | 3,884,550 | 652,604
C. bairdi Zone 1 | n/a | 0.3300 | 741,190 | 244,593
C. bairdi Zone 2 | n/a | 0.1860 | 2,250,360 | 418,567
¹ Refer to § 679.2 for definitions of areas.
² Target trawl fishery categories are defined at § 679.21(b)(1)(ii)(B) and (e)(3)(iv).
³ Halibut amounts are in metric tons of halibut mortality. Crab amounts are in numbers of animals.
⁴ “Other flatfish” for PSC monitoring includes all flatfish species, except for halibut (a prohibited species), Alaska plaice, arrowtooth flounder, flathead sole, Greenland turbot, Kamchatka flounder, rock sole, and yellowfin sole.
⁵ “Other species” for PSC monitoring includes skates, sharks, and octopuses.

Response to Comments

Comment 1: The proposed groundfish harvest specifications do not consider the current status of Chinook and chum salmon.

Response: NMFS and the Council considered the status of Chinook and chum, and the harvest specifications reflect adjustments based on promulgated regulations. NMFS and the Council have taken comprehensive action through Amendments 91 and 110 to the FMP and implementing regulations to reduce salmon bycatch in the pollock trawl fishery because of the potential for negative impacts on salmon stocks. Existing measures have reduced salmon bycatch in the pollock fishery compared with what they would have been without the measures. Regulations set limits on how many Chinook salmon can be caught in a year in the pollock fishery, and those regulations require bycatch caps to be calculated and implemented in the annual harvest specifications. NMFS annually allocates portions of either 33,318, 45,000, 47,591, or 60,000 Chinook salmon PSC limits among the AFA sectors, depending on past bycatch performance, on whether Chinook salmon bycatch incentive plan agreements (IPAs) are formed and approved by NMFS, and on whether NMFS determines it is a low Chinook salmon abundance year. NMFS will determine that it is a low Chinook salmon abundance year when abundance of Chinook salmon in western Alaska is less than or equal to 250,000 Chinook salmon. The State of Alaska provides NMFS with an estimate of Chinook salmon abundance using the 3-System Index for western Alaska based on the Kuskokwim, Unalakleet, and Upper Yukon aggregate stock grouping. For 2023, NMFS determined it was a low abundance year based on the State of Alaska's 3-System Index. In accordance with the regulations at § 679.21(f), NMFS has specified a Chinook salmon PSC limit of 45,000 Chinook salmon, and a Chinook salmon bycatch performance standard of 33,318.

Regulations also set limits on Chinook PSC for the AI pollock fishery and non-Chinook salmon PSC for vessels using trawl gear from August 15 through October 14 in the Catcher Vessel Operational Area (CVOA) (§ 679.21(f)(14) and (g)(2)). These are static limits that are announced in the groundfish harvest specifications.

NMFS acknowledges the western Alaska salmon crisis and the impact it is having on culture and food security throughout western Alaska. Science indicates climate change as the primary driver of poor salmon returns in western Alaska. The Council and NMFS are committed to continued improvements in bycatch management with a goal of minimizing bycatch at all levels of salmon and pollock abundance. NMFS and the Council are currently engaged in a comprehensive process to evaluate existing measures and develop alternatives that may be necessary to further reduce chum salmon bycatch. More information on this process can be found at https://www.npfmc.org/fisheries-issues/bycatch/salmon-bycatch/. However, the Chinook and chum salmon limits and the conditions that affect the limits are set in regulations, and changes to those regulations are outside of the scope of the annual harvest specification process. NMFS believes that changes to bycatch management of all PSC, including Chinook and chum, are best accomplished through the Council process to recommend FMP amendments and regulations that NMFS would implement if consistent with the Magnuson-Stevens Act, the FMP, and other applicable law.

Comment 2: The pollock allocations do not allow for the sustainable harvest of Western Alaska Chinook and chum salmon. NMFS must address how the pollock allocations will not have significant impacts on salmon bycatch.

Response: NMFS recognizes the significant importance of salmon for Alaska Native people and tribes in terms of food security, cultural practices, and a way of life. NMFS manages salmon bycatch in the pollock fishery through a variety of tools, which include Chinook salmon PSC limits, monitoring, and IPAs to address Chinook and chum bycatch. These tools apply at all levels of pollock allocations.

Please see the response to Comment 1 for a description of the Chinook salmon PSC limits that constrain Chinook and non-Chinook bycatch in the pollock fishery.

To support bycatch management goals, NOAA Fisheries (NMFS) has a comprehensive monitoring program to collect data on salmon bycatch. This information is used to estimate how many Chinook and chum salmon are caught as bycatch from trawl vessels, where those fish came from, and whether a potential violation of law occurred. To support catch and bycatch data collection needs on catcher/processors and motherships, two fishery observers on board each vessel ensure that every haul is monitored. All catcher vessels in the Bering Sea pollock fisheries are required to carry an observer or an electronic monitoring system on every trip. All salmon bycatch must be delivered to the shoreside processor and every pollock delivery is monitored in entirety for salmon bycatch to enable a full accounting.

Under Amendments 91 and 110 to the FMP and Federal regulation at 50 CFR 679.21 (Prohibited Species Bycatch Management), the pollock fleet participates in an industry-developed contractual arrangement, called an incentive plan agreement (IPA). An IPA establishes an incentive program to minimize bycatch at all levels of Chinook and chum salmon abundance. To ensure participants develop effective IPAs, participants provide the Council and NMFS an annual report that describes the efforts each IPA is taking to accomplish the intent of the program that each vessel actively avoids Chinook and chum salmon at all times while fishing for pollock and, collectively, that bycatch is minimized in each year. The IPA system is designed to be flexible and responsive, and can be tailored by each sector to fit its operational needs. The IPAs impose rewards for avoiding Chinook salmon bycatch or penalties for failure to avoid Chinook and chum salmon bycatch at the vessel level. Since implementation, all the participants in the pollock fishery are currently participating in IPAs.

In 2022, 8,324 Chinook salmon were incidentally caught in the BSAI groundfish fisheries with 6,337 Chinook salmon out of the total attributed to the BSAI pollock directed fisheries. Historic Chinook catches are posted on the NMFS website: https://www.fisheries.noaa.gov/sites/default/files/akro/chinook_salmon_mortality2022.html.

In 2022, 245,269 chum salmon were incidentally caught in the BSAI groundfish fisheries with 242,375 chum salmon out of the total attributed to the BSAI pollock directed fisheries. Historic non-Chinook salmon catches are posted on the NMFS website: https://www.fisheries.noaa.gov/sites/default/files/akro/chum_salmon_mortality2022.html.

NMFS has adult equivalence estimates of the Chinook salmon that would have returned to river systems had they not been caught as bycatch in the BS pollock fishery. The most recent estimates of salmon bycatch, which use the best available science, show that estimated bycatch in the pollock fishery is less than 3 percent of the Chinook salmon returns and less than 1 percent of the chum salmon returns in Western Alaska. Since 2011, the peak estimate of Chinook bycatch is less than 2 percent of the Western Alaska returns, as stated in the most recent Eastern BS pollock SAFE Report.

Reducing the pollock TAC likely would have an extremely small effect on salmon returns, and therefore on in-river harvest opportunities, because of the low level of bycatch of salmon in the pollock fishery. The management measure recommended by the Council and implemented in regulation by NMFS (the Chinook bycatch limit) sets an overall limit on the number of Chinook salmon taken as bycatch, as well as a performance standard (which is less than the overall limit to incentivize reducing bycatch). The pollock fleet is constrained by the limit of Chinook salmon set in regulation, regardless of the size of the pollock harvest. Sectors are prohibited from continuing to fish if their PSC limit has been exceeded. Further, if the sector exceeds its performance standard in 3 of 7 years, that sector becomes constrained by the performance standard in future years (meaning, the sector has a lower PSC limit).

There is not currently an overall limit on the number of chum salmon taken as bycatch. Instead, chum salmon bycatch is managed via IPAs in the pollock fishing sectors, which provide incentives for vessels to avoid salmon bycatch under any condition of pollock or salmon abundance. Consistent annual genetic data show the majority of chum bycatch is of Asian hatchery origin, and thus does not affect returns to western Alaska rivers. Nevertheless, the Council is considering additional measures to minimize chum salmon bycatch in the future.

While 2022 was a relatively low TAC for pollock, because of low recruitments in previous years, the pollock TAC has been relatively consistent since new Chinook bycatch measures were implemented in 2011, and new Chinook and chum bycatch measures were implemented in 2016 (§ 679.21(f)): https://media.fisheries.noaa.gov/2022-03/bsai-harvest-specs-1986-present.pdf.

While pollock catches have been consistent from year to year since 2011, Chinook and chum bycatch has varied independently of stable pollock TACs.

Comment 3: National Standard 1 states that NMFS and the Council must consider social, economic, and ecological factors when setting OY, maximum sustainable yield (MSY), and TAC. Under National Standard 1, there must be a reduction in pollock TAC to provide increased escapement and subsistence opportunities for Western Alaska villages.

Response: The Council and NMFS have considered social, economic, and ecological factors in setting OY, MSY, and TAC, and the pollock TAC specified in these final groundfish harvest specification is consistent with the FMP and National Standards. National Standard 1 states that conservation and management measures must prevent overfishing while achieving on a continuing basis the OY from the fishery (16 U.S.C. 1851(a)(1)). The Council and NMFS have previously determined and set the MSY and OY for the groundfish fishery of the BSAI management area, with OY set in the FMP and in regulation as a range of 1.4 million to 2.0 million mt (§ 679.20(a)(1)). It is therefore outside the scope of the harvest specifications process to consider adjustments to the OY and MSY.

In accordance with National Standard 1 and regulations, the SSC recommends for each species and species group an OFL and an ABC. The catch limits (TAC) cannot exceed the ABC (50 CFR 600.310(f)(4)). TAC must be set equal to or less than ABC, and ABC must be set equal to or less than OFL (§ 600.310(f)(3) and (4)). NMFS specifies TAC after consultation with the Council, and annual determinations of TAC are based on review of both the biological condition of the specific species or species group and socioeconomic conditions (§ 679.20(a)(2)-(3)). Here, for 2023, the Council has recommended a BS pollock TAC of 1,300,000 mt, which is 32 percent below the ABC of 1,910,000 mt. The ABC is 62 percent less than the OFL of 3,381,000 mt. This specification of OFL, ABC, and TAC is consistent with National Standard 1 guidelines. The 2023 BS pollock TAC is also 18,000 mt below the past 10-year mean of BS pollock TACs. NMFS concurs with the Council's recommended specification of the 2023 BS pollock TAC. This TAC is based on consideration of the biological condition of the pollock stock, as reviewed in the SAFE pollock chapter; the status of the ecosystem, as reviewed in the Bering Sea ecosystem status report (ESR); and socioeconomic considerations, as reviewed in the SAFE pollock chapter and Economic Status Report. NMFS also concurs with the Council that the specification of all TACs at the upper bound of 2.0 million mt is consistent with National Standard 1, as well as the FMP and the harvest strategy selected as the preferred alternative in the EIS (see response to Comment 5). The specification of all TACs at 2.0 million mt is consistent with historical pollock allocations in years of high pollock abundance. In addition, as explained in response to Comment 2, reducing the pollock TAC would not meaningfully increase salmon returns to Western Alaska given the small percentages of salmon stocks taken as bycatch in the pollock fishery and the constraining PSC limit that applies at any level of pollock harvest.

Comment 4: Even though pollock catches salmon as bycatch, pollock TAC increased while salmon returns have decreased.

Response: Pollock TACs in the BS are cyclical depending on pollock recruitment. While the 2022 TAC was lower than normal due to decreased pollock abundance, the recommended 2023 TACs are similar to the historical average TACs, and thus larger than the 2022 TAC. The best scientific information available does not suggest that a reduction in the pollock TAC would measurably increase salmon escapement to western Alaska (see response to Comment 2). While salmon bycatch in the pollock fishery may be a contributing factor in the decline of salmon, NMFS expects the numbers of the ocean bycatch that would have returned to western Alaska would be relatively small due to ocean mortality and the large number of other river systems contributing to the total Chinook or chum salmon bycatch. For Chinook salmon, the bycatch expected to have returned to western Alaska rivers is less than 3 percent of coastal western Alaska run size in recent years, and less than 2 percent since 2011. For 2021, the estimate of bycaught salmon that would have returned to Western Alaska is 8,610 fish with an estimate of 7,705 fish from 2011 through 2020. For chum salmon, the chum salmon bycatch expected to have returned to western Alaska rivers is less than 1 percent of the coastal western Alaska run size in recent years. For 2021, the number of bycaught salmon expected to return to Western Alaska is estimated to be 51,510 fish with an estimate of 49,290 fish annually from 2011 through 2020.

Comment 5: Explain how OY is reached considering the decreased salmon returns.

Response: The Council recommended and NMFS set the OY as a range of 1.4 to 2 million mt. This OY is set forth in the FMP and in regulation, and is based on the sum of all TACs. NMFS has therefore determined that, in any given year, setting the TACs to fall within that range provides the greatest overall benefit to the Nation, particularly with respect to food production and recreational opportunities and taking into account the protection of marine ecosystems and relevant economic, social, or ecological factors (§ 600.310(e)(3)). Here, NMFS concurs with the Council's recommendation that TACs fall within the upper bound (2 million mt). Setting TACs to meet the upper bound of the OY range of 2.0 million mt, while also recognizing that total TACs represent a 32 percent reduction below total ABCs, balances relevant National Standard 1 considerations. Setting TACs at the higher bound of the OY will provide the greatest benefit for the Nation based on the benefits of maintaining viable groundfish fisheries and contributions to regional and local economies. That total groundfish removals are 32 percent below total ABC recognizes the benefits that flow from that reduction, such as protections afforded to marine ecosystems, forage for ecosystem components, and other ecological factors (§ 600.310(e)(3)(iii)(A)-(B)).

NMFS has determined that further reductions in TAC are not necessary. As stated in the responses to previous comments, the recommended TACs are not expected to significantly affect the returns of Chinook and chum salmon to Western Alaska. Moreover, the pollock fleet is constrained by a PSC limit that applies regardless of fishing effort and the catch limits (TAC) for pollock. Therefore, for the 2023 and 2024 groundfish harvest specifications, the OY is reached by adopting TACs whose sum is within this range while not exceeding the ABCs developed through the SAFE reports and recommended by the Council and SSC.

Comment 6: The harvest specifications use an outdated EIS.

Response: Groundfish harvests are managed subject to annual limits on the retained and discarded amounts of each species and species group. The “harvest strategy” is the method used to calculate the annual limits, referred to as “harvest specifications,” and the process of establishing them is referred to as the “specifications process.” NMFS prepared the Alaska Groundfish Harvest Specifications Final Environmental Impact Statement (Final EIS) to analyze alternatives to implement the FMP's harvest strategy and specifications process, which outlines the method and process used to determine the annual harvest specifications for the federally managed groundfish fisheries in the GOA and BSAI management areas. NMFS also must specify PSC allowances in the annual harvest specifications.

A harvest strategy is needed for the management of the groundfish fisheries and the conservation of marine resources, as required by the Magnuson-Stevens Act and as described in the management policy, goals, and objectives in the FMP (16 U.S.C. 1853(a)(15)). The purpose of the harvest strategy is to provide for orderly and controlled commercial fishing for groundfish; promote sustainable incomes to the fishing, fish processing, and support industries; support sustainable fishing communities; and provide sustainable flows of fish products to consumers. The harvest strategy balances groundfish harvest in the fishing year with ecosystem needs (such as non-target fish stocks, marine mammals, seabirds, and habitat).

NMFS concluded that the harvest strategy provides the best balance among relevant environmental, social, and economic considerations and allows for continued management of the groundfish fisheries based on the most recent, best scientific information. While the specific numbers that the harvest strategy produces may vary from year to year, the methodology used for the preferred harvest strategy remains constant. NMFS has not changed the harvest strategy or specifications process from what was analyzed in the Final EIS.

Each year the harvest strategy uses the best scientific information available in the annual SAFE reports to derive the annual harvest specifications, which include TACs and PSC limits. The SAFE reports are available (see ADDRESSES). Through this process, each year, the Council's Groundfish Plan Teams use updated stock assessments to calculate biomass, OFLs, and ABCs for each species and species group for specified management areas. The OFLs and ABCs are published with the harvest specifications, and provide the foundation for the Council and NMFS to develop the TACs. The OFLs and ABCs reflect fishery science, applied in light of the requirements of the FMPs. The Council bases its TAC recommendations on those of its AP, which are consistent with the SSC's OFL and ABC recommendations (meaning, the TAC recommendations cannot exceed the SSC's ABC and OFL recommendations).

The Final EIS evaluates the consequences of alternative harvest strategies on ecosystem components and on the ecosystem as a whole. The Final EIS evaluates the alternatives for their effects within the action area. The environmental consequences of each alternative were considered for target species, non-specified species, forage species, prohibited species, marine mammals, seabirds, Essential Fish Habitat, ecosystem relationships, the economy, and environmental justice. These considerations were evaluated based on the conditions as they existed at the time the EIS was developed. However, each year since 2007 relevant changes (new information, changed circumstances, potential changes to the action) are considered with the primary purpose of evaluating the need to supplement the Final EIS.

NEPA implementing regulations at 40 CFR 1502.9(d) instruct agencies to prepare supplements to either draft or final environmental impact statements if: (i) The agency makes substantial changes to the proposed action that are relevant to environmental concerns; or (ii) There are significant new circumstances or information relevant to environmental concerns and bearing on the proposed action or its impacts.

Not every change requires a supplemental EIS (SEIS); only those changes that cause significantly different effects from those already studied require supplementary consideration. The Supreme Court directs that “an agency need not supplement an EIS every time new information comes to light after the EIS is finalized. To require otherwise would render agency decision making intractable.” Marsh v. Oregon Nat. Res. Council, 490 U.S. 360, 373 (1989). On the other hand, if a major Federal action remains to occur, and if new information indicates that the remaining action will affect the quality of the human environment in a significant manner or to a significant extent not already considered, an SEIS must be prepared. Ultimately, an agency is required “to take a `hard look' at the new information to assess whether supplementation might be necessary.” Norton v. S. Utah Wilderness All., 542 U.S. 55, 72-73 (2004).

NEPA implementing regulations at § 1502.9(d)(4) stipulate that an agency may find that changes to the proposed action are not substantial or new circumstances or information relevant to environmental concerns are not significant and therefore do not require a supplement to an EIS. As stipulated under 40 CFR 1507.3 and NOAA Administrative Order 216-6A, NOAA's NEPA procedures are found in the Policy and Procedures for Compliance with the National Environmental Policy Act and Related Authorities (Companion Manual). Appendix C of the Companion Manual authorizes the use of a Supplementary Information Report (SIR) to document a review of new information or circumstances that differ from that described in an existing NEPA document to determine the sufficiency of the existing analysis and subsequent decision. The SIR contains the rationale for and decision regarding whether new information or circumstances or changes to the action are significant and thus whether an SEIS is required. The SIR also looks at reasonably foreseeable future actions to gauge whether a future action, individually or cumulatively, could cause a substantial change in the action or represent significant new circumstances or new information that would require an SEIS in the future.

A SIR for the Final EIS is prepared each year to document the evaluation and decision whether an SEIS is necessary to implement the annual groundfish harvest specifications. The SIR analyzes the information contained in the most recent SAFE reports and all information available to NMFS and the Council to determine whether an SEIS should be prepared. The SAFE reports represent the best scientific information available for the harvest specifications. Included in the SAFE reports are the groundfish stock assessments, the website for the ESR for the SAFE reports, and the website for the Economic Status Report for the SAFE reports. To date, no annual SIR to the EIS has concluded that an SEIS is necessary. This is largely due to the flexibility built into the process and the alternatives evaluated (particularly the preferred harvest strategy as implemented) in the Final EIS. That inherent flexibility allows for the implementation of annual harvest specifications that reflect new information and changing circumstances.

The preferred harvest strategy analyzed in the Final EIS anticipated that changes in information would be used each year in setting the annual harvest specification since the process is flexible to adjust to new information on stock abundance and environmental and socioeconomic factors (like climate change). Similarly, the FMP contemplates ongoing consideration of relevant factors through the development of SAFE reports (Section 3.2.2.2 of the FMP). The use of new information from the SAFE reports allows the Council and NMFS to respond to changes in stock condition and environmental and socioeconomic factors in the BSAI and to adjust the harvest specifications as necessary, which is consistent with the preferred harvest strategy from the Final EIS and the FMP and which is consistent with National Standard 2 of the Magnuson-Stevens Act to use the best scientific information available (16 U.S.C. 1851(a)(2)).

Separate from the Final EIS, the Council and NMFS prepared the Alaska Groundfish Programmatic Supplemental Environmental Impact Statement (PSEIS). The Council is currently considering approaches, such as a programmatic EIS, to provide a comprehensive analysis of the impacts of the Federal groundfish fisheries on the human environment, with a view towards creating more climate-resilient Federal fisheries. This has involved an ongoing discussion of the 2004 PSEIS. The scope of, and changes from, the 2004 PSEIS are outside the scope of this action.

Comment 7: The process of setting OFLs and ABCs does not account for the viability of all species in the BSAI.

Response: The process of setting OFLs and ABCs is an expansive process that accounts for the best scientific information available on target species as well as ecosystem considerations like non-target species. The SSC and the Council recommend OFLs and ABCs to prevent overfishing as mandated in National Standard 1 of the MSA. The OFLs and ABCs apply only to targets of directed fisheries. However, through ecosystem considerations in both the ESR for the SAFE and the NEPA process, impacts on a wider range of species is considered during the harvest specification process. In addition, the setting of OFLs and ABCs informs the setting of TACs since the TAC cannot exceed the ABC for each species and species group. The sum of all TACs must fall within the OY range. The OY is based on the management objectives of the FMP, as well as relevant social, economic, and ecological factors (§ 600.310(e)(3)). Ecological factors include ecosystem component species, forage fish stocks, other fisheries, predator-prey or competitive interactions, marine mammals, threatened or endangered species, and birds. The FMP addresses how the OY for the BSAI groundfish fishery reflects ecological factors (see, for example, Section 3.2.2.2 and Section 4.6 of the FMP). In this way, the annual harvest specifications process results in annual OFLs, ABCs, and TACs that, although set for target species only, are based on consideration of ecosystem and ecological factors, including species other than target species. When possible, stock assessment models include information on ecosystem and environmental effects to improve the interpretation of historical information and the precision of forecasts. NMFS is committed to supporting science and research to move us toward effective ecosystem-based management. Developing additional tools and approaches for incorporating ecosystem factors will allow us to deal with the impacts of climate and other environmental change on our marine species.

Comment 8: The Secretary of Commerce must minimize bycatch under National Standard 9.

Response: National Standard 9 directs that conservation and management measures shall, to the extent practicable, minimize bycatch. The Council and NMFS develop and implement FMP amendments and regulations for new bycatch reduction measures. The harvest specifications set PSC, or bycatch, limits for salmon and crab based on pre-existing frameworks set out in regulation; each of these earlier actions establishing a PSC, or bycatch, limit considered and balanced all the National Standards, including the direction to minimize bycatch to the extent practicable. Specifying bycatch levels in the annual harvest specifications consistent with the existing PSC regulations is therefore consistent with National Standard 9.

Comment 9: Under National Standards 4 and 8, the Secretary must allocate fishery resources fairly among fishermen and adopt conservation and management measures that account for the importance of fishery resources to communities. In the proposed harvest specifications decision, the Secretary has not provided a sufficient consideration of the ecological, economic, and social factors required under National Standards 4 and 8.

Response: National Standard 4 states that conservation and management measures shall not discriminate between residents of different states (16 U.S.C. 1851(a)(4)). The harvest specifications do not discriminate or differentiate among residents of different states. The harvest specifications further implement annual allocations of fishing privileges among fishermen. These allocations were implemented in regulation through previous rulemakings that considered and balanced all the National Standards, including National Standard 4. These harvest specifications are therefore consistent with National Standard 4.

National Standard 8 states that conservation and management measures shall take into account the importance of fishery resources to fishing communities by utilizing economic and social data in order to: (A) provide for the sustained participation of such communities, and (B) to the extent practicable, minimize adverse economic impacts on such communities (16 U.S.C. 1851(a)(8)). This is addressed in the harvest specifications process at § 679.20(a)(3)(ii). TACs are set at or below ABCs to prevent overfishing. TACs are set within the OY range, a range that the Council and NMFS determined will provide the greatest overall benefit to the National with respect to food production and in consideration of relevant economic and social factors. The FMP's definition of OY recognized: “1. The OY range is not likely to have any significant detrimental impact on the industry. On the contrary, specification of OY as a constant range helps to create a stable management environment in which the industry can plan its activities consistently, with an expectation that each year's total groundfish catch will be at least 1.4 million mt. 2. The OY range encompasses the annual catch levels taken in the period immediately prior to its implementation, during which the fishery operated profitably.” TACs within this range will ensure the sustained participation of fishing communities. As addressed in the response to Comment 5, NMFS concurs with the Council's recommendation that TACs fall within the upper bound (2 million mt) and that further reductions are not necessary.

In addition, many of the conservation and management measures effectuated through the annual harvest specifications were implemented in prior rulemakings that are outside of the scope of the current specification process to change. These would include allocations to communities, use caps, and limits on bycatch, which are set in regulation. These regulations created allocations, caps, and limits that are addressed in the specification process and specified in the annual specifications. The prior rulemakings on these conservation and management measures considered and balanced all the National Standards, including National Standard 8. The final harvest specifications are therefore consistent with National Standard 8.

Comment 10: The current NEPA analysis supporting the groundfish harvest specifications does not consider climate change.

Response: The Final EIS analyzed alternatives for an implementing framework for the BSAI and GOA harvest strategy and evaluated the potential effects of those alternatives on the human environment (see response to Comment 6). The EIS examined existing physical and oceanographic conditions in the BSAI and GOA, and addressed regime shifts, warming and loss of sea ice, and acidification (Section 3.5 of the Final EIS). Moreover, the framework process for the preferred harvest strategy under the Final EIS allows for the effects of climate change to be considered in the annual process for setting the harvest specifications.

The annual ESR is part of the SAFE reports that the Council and its Plan Teams, SSC, and AP annually review prior to the review of the stock assessments and advancing recommendations of the annual OFLs, ABCs, and TACs. Contributions to the ESR are developed by scientists and fishery managers at NOAA, other U.S. Federal and State agencies, academic institutions, tribes, nonprofits, and other sources. Ongoing research incorporated into the ESR has increased our understanding of the interactions among ecosystem components, including how they are impacted by changing environmental conditions related to climate change. The ESR, published each December, informs annual harvest recommendations. The purpose of the ESR is to provide the Council, scientific community, and the public with annual information about ecosystem status and trends. Information from the report is integrated into the annual harvest recommendations through inclusion in stock assessment-specific risk tables and is considered during the annual groundfish and crab Plan Team meetings and Council meetings. The target audience for this report is the SSC to provide context for setting the annual OFLs and ABCs, and for the Council's final TAC recommendations for groundfish and crab. This report includes physical oceanography, biological data, and socio-ecological dimensions, primarily collected from Alaska Fisheries Science Center (AFSC) surveys with collaboration from a range of government and non-government partners. There are many examples of climate change considerations presented in the ESR, such as reevaluating the importance of survey distribution of stocks like Pacific cod and pollock based on water temperature.

In some instances, the Plan Teams and SSC have recommended ABC reductions based on climate change considerations. Stock assessments use a stock-assessment specific risk table that is applied by evaluating the severity of four types of considerations that could be used to support a scientific recommendation to reduce the ABC from the maximum permissible ABC. The four considerations are assessment-related, population dynamics, environmental/ecosystem, and fishery performance. As one environmental/ecosystem consideration, scientists noted for one stock that patterns in distribution, growth, and size were associated with warmer ocean conditions and the cumulative effects from a series of recent warm years. That consideration warranted an increased level concern under the risk table. These risk tables are now prepared as part of the stock assessment process for groundfish stocks and help inform the setting of ABC (which in turn informs the setting of TAC).

Finally, the FMP indicated that the ongoing consideration of ecological factors like climate change would be addressed annually in the SAFE reports (Section 3.2.2.2 of the FMP), as is currently the case with the both individual stock assessments and the ESRs. As a result, the annual harvest specifications process, which implements the preferred harvest strategy under the EIS, allows for the consideration of the best scientific information available on climate change (16 U.S.C. 1851(a)(2)).

Comment 11: TACs should be set using ecosystem management.

Response: Ecosystem considerations inform the specification of TACs in a variety of ways. As detailed in the SAFE reports, ecosystem considerations are incorporated into the harvest specifications process. Information about the ecosystem is included in the groundfish stock assessments used to determine the OFL and ABC, which in turn inform the TAC, for all target species and species groups in the BSAI. When possible, stock assessment models include information on ecosystem and environmental effects to improve the interpretation of historical information and the precision of forecasts. As explained in the response to Comment 10, in some cases, ABCs have been reduced from the assessment model based on the ecosystem considerations presented in the risk tables. And, as explained in the response to Comment 10, the annual ESRs further allow for the consideration of ecosystem factors during the process to specify annual OFLs and ABCs for target species and species groups.

NMFS is required to prevent overfishing, so no TAC may exceed the ABC as determined by the population dynamics of any particular stock. However, in the BSAI, the TACs are not set equal to ABCs. Both the FMP and regulations limit the sum of the TACs from the ecosystem at 2 million mt, so the TACs are further reduced to meet this limit in years of high ABCs. This reduction in TACs to 2 million mt reduces fishery removals and therefore impacts on the ecosystem. For the 2023 harvest specifications, the total TAC has been reduced by 1.2 million mt to ensure the sum of all TACs is within the OY range.

OY is the amount of fish that will provide the greatest overall benefit to the Nation, taking into account the protection of marine ecosystems and relevant economic, social, or ecological factors (§ 600.310(e)(3)). OY is based on the management objectives of the FMP, as well as relevant ecological factors like ecosystem component species, forage fish stocks, other fisheries, predator-prey or competitive interactions, marine mammals, threatened or endangered species, and birds. The FMP addresses how the OY for BSAI groundfish fishery reflects ecosystem and ecological factors (see, for example, Section 3.2.2.2 and Section 4.6 of the FMP). The FMP further indicated that the ongoing consideration of ecosystem and ecological factors relevant to OY would be addressed annually in the SAFE reports (Section 3.2.2.2 of the FMP). Consistent with the FMP, the sum of the TACs must be within the OY range, and all TACs are informed by both individual stock assessments (including the risk tables) and the ESR for the SAFE report, which are updated annually to address ecosystem factors.

As a result, the harvest specification process, including the specification of TACs, considers best scientific information available on ecosystem factors. As noted above, NMFS is committed to supporting science and research to move us toward effective ecosystem-based management and developing additional tools and approaches for incorporating ecosystem factors.

Comment 12: Current evaluations fail to account for the true environmental cost of the pollock TAC for trawl fishing.

Response: Ecosystem considerations, as well as the impact on communities and incidentally caught species, are considered annually in the ESR to the SAFE report as well as individual stock SAFE reports. The chapter on pollock includes discussions on the ecosystem as well as sections titled “Ecosystem effects on the EBS pollock stock” and “EBS pollock fishery effects on the ecosystem.” The ecosystem is also evaluated in the Final EIS, which in turn is annually evaluated in the SIR. Additionally, the environmental impacts of the pollock fishery have been analyzed in a number of subsequent NEPA documents, including the Environmental Impact Statement for Amendment 91 to the FMP and the Environmental Assessment for Amendment 110 to the FMP.

NMFS is required to achieve an OY on a continuing basis. The FMP and implementing regulations dictate an OY of 1.4 to 2 million mt. In the BSAI, it is currently not possible to reach that range without the use of trawl gear.

Comment 13: The floor for Chionoecedes opilio (C. opilio or snow crab) PSC should be removed. Crab PSC limits should be changed because they fail to account for limitations identified by scientists, such as recruitment failures or other bottlenecks in aspects of the current environmental conditions that limit the reproductive ability of the stock and because they do not provide groundfish trawl sectors incentive to move away from areas of high bycatch.

Response: The PSC limit for C. opilio crab was developed and implemented by Amendments 40 and 57 to the FMP. The PSC limit for C. opilio crab is set forth in regulation, which directs NMFS to specify annually the limit based on total abundance of C. opilio crab as indicated by the NMFS annual bottom trawl survey. The regulations direct that the limit will be 0.1133 percent of total abundance, minus 150,000 C. opilio crabs, unless a minimum or maximum limit specified in regulation applies (§ 679.21(e)(1)(iii)). In these specifications, NMFS has calculated and specified the PSC limit for C. opilio crab based on total abundance from the NMFS annual bottom trawl survey. In addition, in these groundfish harvest specifications, the Council recommends and NMFS adopts amounts of crab PSC limits between trawl fishery categories as outlined in § 679.21(e)(3). These harvest specifications set forth the C. opilio crab PSC limits consistent with existing regulations. Any changes to the floor for the C. opilio crab PSC limit is beyond the scope of these annual groundfish harvest specifications. Changes to the C. opilio crab PSC limit would need to be reviewed and analyzed through the Council process in an action separate from the groundfish harvest specifications. To note, the Council is working on developing potential conservation and management actions to improve crab bycatch management and further reduce fishing impacts on Bristol Bay red king crab and Eastern Bering Sea C. opilio crab.

Similarly, PSC limits for Chionoecetes bairdi (C. bairdi or Tanner crab) are set forth in regulations that dictate specific C. bairdi crab PSC limits based on total abundance of crabs as indicated by the NMFS annual bottom trawl survey (§ 679.21(e)(1)(ii)). In accordance with these regulations, NMFS calculated the applicable C. bairdi crab PSC limit based on total abundance and specified that PSC limit in these groundfish harvest specifications. Any changes to the regulations on crab PSC limits are beyond the scope of these annual groundfish harvest specifications. Changes to the C. bairdi crab PSC limit would need to be reviewed and analyzed through the Council process in an action separate from the groundfish harvest specifications. Separate actions for crab PSC will rely upon the crab SAFE documents, which do consider the impact of trawl bycatch on crab abundance.

Comment 14: Catch levels of Pacific cod should be increased to reduce predation on crab.

Response: As discussed above, the most recent scientific information available from the 2022 stock assessments is used to set the 2023 and 2024 OFLs, ABCs, and TACs for all groundfish species, including BSAI Pacific cod. The Council recommended, and NMFS approved, the 2023 and 2024 BSAI Pacific cod TACs at the maximum amounts available after setting aside the amounts needed to support the State's GHL fisheries. This recommendation is made to ensure that catch in Federal and State waters does not exceed the ABC. Further increasing Pacific cod TACs could lead to overfishing, and would violate the MSA and National Standard 1 guidelines that direct that catch (TAC) may not exceed fishing level recommendations (OFL and ABC) (16 U.S.C. 1852(h)(6)) and that conservation and management measures shall prevent overfishing (16 U.S.C. 1851(a)(1)).

Comment 15: NMFS should take a precautionary approach to fisheries management decisions, like the harvest specifications decision.

Response: NMFS takes a precautionary approach to fisheries management in setting the annual harvest specifications. NMFS's primary objective for fisheries management decisions including the harvest specifications process is the conservation and management of fish resources. Currently, no Alaska groundfish species are known to be experiencing overfishing.

Stock assessments provide important scientific information necessary for the conservation and management of fish stocks. The stock assessments use a six-tiered system that accommodates different levels of reliable information available to fishery scientists for determining OFLs and ABCs. Fishery scientists use the equations from an appropriate tier to determine when a stock is overfished according to the reliability of information available. The six-tiered system accomplishes three basic functions: (1) It compensates for uncertainty in estimating fishing mortality rates at a level of MSY by establishing fishing mortality rates more conservatively as biological parameters become more imprecise (less reliable); (2) it relates fishing mortality rates directly to biomass for stocks below target abundance levels, so that fishing mortality rates fall to zero should a stock become critically depleted; and (3) it maintains a buffer between the ABC and the OFL to further minimize the possibility of catches jeopardizing a stock's long term productivity. Also, stock assessments use a risk table that is applied by evaluating the severity of four types of considerations that could be used to support a scientific recommendation to reduce the ABC from the maximum permissible ABC. The four considerations are assessment-related, population dynamics, environmental/ecosystem, and fishery performance.

For the harvest specifications, the stock assessments that produce the OFLs and ABCs have several levels of review. The AFSC internally reviews the stock assessment, and then the Plan Team and SSC reviews the stock assessment, which incorporates public comment during public meetings. Also several stock assessments are peer reviewed using the Center for Independent Experts, which is important in ensuring the incorporation of the best scientific information available for the conservation and management measures to ensure sustainability of our Nation's living marine resources.

The annual determinations of TAC for each species or species group may be based on a review of the biological condition of groundfish stocks. SAFE documents prepared annually for the Council and NMFS provide information on historical catch trends; updated estimates of the MSY of the groundfish complex and its component species groups; assessments of the stock condition of each target species; assessments of the multispecies and ecosystem impacts of harvesting the groundfish complex at current levels, the assessed condition of stocks, including consideration of rebuilding depressed stocks; and alternative harvesting strategies and related effects on the component species group. The SAFE reports also include the socioeconomic considerations that are consistent with the goals of the FMPs for the groundfish, including the need to promote efficiency in the utilization of fishery resources and minimize costs; the need to manage for the optimum marketable size of a species; the impact of groundfish harvests on prohibited species and the domestic target fisheries that utilize these species; the desire to enhance depleted stocks; the seasonal access to the groundfish fishery by domestic fishing vessels; the commercial importance of a fishery to local communities; the importance of a fishery to subsistence users; and the need to promote utilization of certain species.

Comment 16: NMFS should take a hard look at minimizing impacts to the seafloor on essential crab habitat, and minimizing unobserved mortality due to fishing gear interactions. There should be a hard look at all fishing gear groups on how to best balance this approach.

Response: NMFS implements the groundfish harvest specifications process in accordance with the regulations set forth at 50 CFR part 679, which include regulations to close areas to fishing to protect habitat, modify gear to minimize impacts to the seafloor, specify allocations to specific gear and operational sectors, and limit PSC for vessels using specific gear. These final specifications are developed in accordance with these regulations. Any changes to the regulations to address gear impacts are beyond the scope of the groundfish harvest specifications process. Separate from the groundfish harvest specifications process, the Council has recently taken action to look at changes to reduce crab bycatch mortality and how to estimate unobserved mortality for crab stocks.

Comment 17: Industry has inequitable access to the Council and NMFS.

Response: These final harvest specifications were developed through a public process that began with Plan Team review at September and November meetings, which are open to the public. The SSC and Council review occurred at their October and December meetings. These meetings are also open to the public. The public can comment in writing and/or orally at these meetings. Comments can be given in-person or virtually for online participants. Finally, NMFS published the proposed harvest specifications in the Federal Register for 30 days of public comment (87 FR 76435, December 14, 2022). Included in both the proposed and final specifications is a person of contact and their telephone number. Additionally, information to guide the public through the Council and regulatory processes are available on the Council web page (https://www.npfmc.org/) and NMFS Alaska Region web page (see ADDRESSES).

NMFS is cognizant that the Council and regulatory processes may be unfamiliar to newer participants and interested individuals. NMFS will endeavor to improve accessibility and outreach to the public to help individuals and interested participants better understand Council and regulatory processes and the opportunities and methods for public input.

Classification

NMFS is issuing this final rule pursuant to section 305(d) of the Magnuson-Stevens Act. Through previous actions, the FMP and regulations are designed to authorize NMFS to take this action. See 50 CFR part 679. The NMFS Assistant Administrator has determined that the final harvest specifications are consistent with the FMP and with the Magnuson-Stevens Act and other applicable laws.

This action is authorized under 50 CFR 679.20 and is exempt from review under Executive Order 12866 because it only implements annual catch limits in the BSAI.

NMFS prepared an EIS for the Alaska groundfish harvest specifications and alternative harvest strategies (see ADDRESSES) and made it available to the public on January 12, 2007 (72 FR 1512). On February 13, 2007, NMFS issued the Record of Decision (ROD) for the Final EIS. In January-February 2023, NMFS prepared a Supplementary Information Report (SIR) for this action to provide a subsequent assessment of the action and to address the need to prepare a Supplemental EIS (SEIS) (40 CFR 1501.11(b); § 1502.9(d)(1)). Copies of the Final EIS, ROD, and annual SIRs for this action are available from NMFS (see ADDRESSES). The Final EIS analyzes the environmental, social, and economic consequences of the groundfish harvest specifications and alternative harvest strategies on resources in the action area. Based on the analysis in the Final EIS, NMFS concluded that the preferred alternative (Alternative 2) provides the best balance among relevant environmental, social, and economic considerations and allows for continued management of the groundfish fisheries based on the most recent, best scientific information. The preferred alternative is a harvest strategy in which TACs are set at a level within the range of ABCs recommended by the Council's SSC; the sum of the TACs must achieve the OY specified in the FMP. While the specific numbers that the harvest strategy produces may vary from year to year, the methodology used for the preferred harvest strategy remains constant.

The latest annual SIR evaluated the need to prepare an SEIS for the 2023 and 2024 groundfish harvest specifications. An SEIS must be prepared if: (1) the agency makes substantial changes in the proposed action that are relevant to environmental concerns; or (2) significant new circumstances or information exist relevant to environmental concerns and bearing on the proposed action or its impacts (§ 1502.9(d)(1)). After reviewing the information contained in the SIR and SAFE report, the Regional Administrator has determined that: (1) approval of the 2023 and 2024 harvest specifications, which were set according to the preferred harvest strategy in the Final EIS, does not constitute a substantial change in the action; and (2) there are no significant new circumstances or information relevant to environmental concerns and bearing on the action or its impacts that are not addressed through the annual process of using the preferred harvest strategy to set the 2023 and 2024 harvest specifications. Additionally, the 2023 and 2024 harvest specifications will result in environmental, social, and economic impacts within the scope of those analyzed and disclosed in the Final EIS. Therefore, an SEIS is not necessary to implement the 2023 and 2024 harvest specifications.

A final regulatory flexibility analysis (FRFA) was prepared. Section 604 of the Regulatory Flexibility Act (RFA) (5 U.S.C. 604) requires that, when an agency promulgates a final rule under 5 U.S.C. 553, after being required by that section or any other law, to publish a general notice of proposed rulemaking, the agency shall prepare a FRFA. The following constitutes the FRFA prepared for these final 2023 and 2024 harvest specifications.

Section 604 of the RFA describes the required contents of a FRFA: (1) a statement of the need for, and objectives of, the rule; (2) a statement of the significant issues raised by the public comments in response to the initial regulatory flexibility analysis, a statement of the assessment of the agency of such issues, and a statement of any changes made in the proposed rule as a result of such comments; (3) the response of the agency to any comments filed by the Chief Counsel for Advocacy of the Small Business Administration in response to the proposed rule, and a detailed statement of any change made to the proposed rule in the final rule as a result of the comments; (4) a description of and an estimate of the number of small entities to which the rule will apply or an explanation of why no such estimate is available; (5) a description of the projected reporting, recordkeeping, and other compliance requirements of the rule, including an estimate of the classes of small entities which will be subject to the requirement and the type of professional skills necessary for preparation of the report or record; and (6) a description of the steps the agency has taken to minimize the significant economic impact on small entities consistent with the stated objectives of applicable statutes, including a statement of the factual, policy, and legal reasons for selecting the alternative adopted in the final rule and why each one of the other significant alternatives to the rule considered by the agency that affect the impact on small entities was rejected.

A description of this action, its purpose, and its legal basis are included at the beginning of the preamble to this final rule and are not repeated here.

NMFS published the proposed rule on December 14, 2022 (87 FR 76435). NMFS prepared an Initial Regulatory Flexibility Analysis (IRFA) to accompany the proposed action, and included the IRFA in the proposed rule. The comment period closed on January 13, 2023. No comments were received on the IRFA or on the economic impacts of the rule more generally. The Chief Counsel for Advocacy of the Small Business Administration did not file any comments on the proposed rule.

The entities directly regulated by this action are those that harvest groundfish in the exclusive economic zone of the BSAI and in parallel fisheries within State waters. These include entities operating CVs and CPs within the action area and entities receiving direct allocations of groundfish.

For RFA purposes only, NMFS has established a small business size standard for businesses, including their affiliates, whose primary industry is commercial fishing (see 50 CFR 200.2). A business primarily engaged in commercial fishing (NAICS code 11411) is classified as a small business if it is independently owned and operated, is not dominant in its field of operation (including its affiliates), and has combined annual receipts not in excess of $11 million for all its affiliated operations worldwide.

Using the most recent data available (2021), the estimated number of directly regulated small entities includes approximately 146 CVs, 6 CPs, and 6 CDQ groups. Some of these vessels are members of AFA inshore pollock cooperatives, Gulf of Alaska rockfish cooperatives, or BSAI Crab Rationalization Program cooperatives, and, since under the RFA, the aggregate gross receipts of all participating members of the cooperative must meet the “under $11 million” threshold, the cooperatives are considered to be large entities within the meaning of the RFA. Thus, the estimate of 146 CVs may be an overstatement of the number of small entities. Average gross revenues in 2021 were $700,000 for small hook-and-line vessels, $1.1 million for small pot vessels, and $2.1 million for small trawl vessels. Average gross revenues for CP entities are confidential.

This final rule contains no information collection requirements under the Paperwork Reduction Act of 1995.

This action implements the final 2023 and 2024 harvest specifications, apportionments, and prohibited species catch limits for the groundfish fishery of the BSAI. This action is necessary to establish harvest limits for groundfish during the 2023 and 2024 fishing years and is taken in accordance with the FMP prepared by the Council pursuant to the Magnuson-Stevens Act. The establishment of the final harvest specifications is governed by the Council's harvest strategy for the catch of groundfish in the BSAI. The harvest strategy was previously selected from among five alternatives. Under this preferred alternative harvest strategy, TACs are set within the range of ABCs recommended by the SSC; the sum of the TACs must achieve the OY specified in the FMP; and while the specific TAC numbers that the harvest strategy produces may vary from year to year, the methodology used for the preferred harvest strategy remains constant. This final action implements the preferred alternative harvest strategy previously chosen by the Council to set TACs that fall within the range of ABCs recommended through the Council harvest specifications process and as recommended by the Council. This is the method for determining TACs that has been used in the past.

The final 2023 and 2024 TACs associated with the preferred harvest strategy are those recommended by the Council in December 2022. OFLs and ABCs for each species and species group were based on recommendations prepared by the Council's Plan Team, and reviewed by the Council's SSC. The Council's TAC recommendations are consistent with the SSC's OFL and ABC recommendations, and the sum of all TACs remains within the OY for the BSAI consistent with § 679.20(a)(1)(i)(A). Because setting all TACs equal to ABCs would cause the sum of TACs to exceed an OY of 2 million mt, TACs for some species and species groups are lower than the ABCs recommended by the Plan Team and the SSC.

The final 2023 and 2024 OFLs and ABCs are based on the best available biological information, including projected biomass trends, information on assumed distribution of stock biomass, and revised technical methods to calculate stock biomass. The final 2023 and 2024 TACs are based on the best available biological and socioeconomic information. The final 2023 and 2024 OFLs, ABCs, and TACs are consistent with the biological condition of groundfish stocks as described in the 2022 SAFE report, which is the most recent, completed SAFE report. Accounting for the most recent biological information to set the final OFLs, ABCs, and TACs is consistent with the objectives for this action, as well as National Standard 2 of the Magnuson-Stevens Act (16 U.S.C. 1851(a)(2)) that actions shall be based on the best scientific information available.

Under this action, the ABCs reflect harvest amounts that are less than the specified overfishing levels. The TACs are within the range of ABCs recommended by the SSC and do not exceed the biological limits recommended by the SSC (the ABCs and OFLs). For some species and species groups in the BSAI, the Council recommended, and NMFS sets, TACs equal to ABCs, which is intended to maximize harvest opportunities in the BSAI. However, NMFS cannot set TACs for all species in the BSAI equal to their ABCs due to the constraining OY limit of 2 million mt. For this reason, some final TACs are less than the final ABCs. These specific reductions were reviewed and recommended by the Council's AP, and then reviewed and adopted by the Council as the Council's recommended final 2023 and 2024 TACs.

Based on the best available scientific data, and in consideration of the Council's objectives for this action, there are no significant alternatives that have the potential to accomplish the stated objectives of the Magnuson-Stevens Act and any other applicable statutes and that have the potential to minimize any significant adverse economic impact of the final rule on small entities. This action is economically beneficial to entities operating in the BSAI, including small entities. The action specifies TACs for commercially-valuable species in the BSAI and allows for the continued prosecution of the fishery, thereby creating the opportunity for fishery revenue. After public process, during which the Council solicited input from stakeholders, the Council concluded that these final harvest specifications would best accomplish the stated objectives articulated in the preamble for this final rule and in applicable statutes, and would minimize to the extent practicable adverse economic impacts on the universe of directly regulated small entities.

Adverse impacts on marine mammals, or endangered or threatened species, resulting from fishing activities conducted under this rule are discussed in the Final EIS and its accompanying annual SIRs (see ADDRESSES).

Pursuant to 5 U.S.C. 553(d)(3), the Assistant Administrator for Fisheries, NOAA, finds good cause to waive the 30-day delay in the date of effectiveness for this rule because delaying the effective date of this final rule is contrary to the public interest. The Plan Team review of the 2022 SAFE report occurred in November 2022, and based on the 2022 SAFE report the Council considered and recommended the final harvest specifications in December 2022. Accordingly, NMFS's review of the final 2023 and 2024 harvest specifications could not begin until after the December 2022 Council meeting, and after the public had time to comment on the proposed action.

For all fisheries not currently closed because the TACs established under the final 2022 and 2023 harvest specifications (87 FR 11626, March 2, 2022) were not reached, it is possible that they would be closed prior to the expiration of a 30-day delayed effectiveness period because their TACs could be reached within that period. If implemented immediately, this rule would allow these fisheries to continue fishing because some of the new TACs implemented by this rule are higher than the TACs under which they are currently fishing.

In addition, immediate effectiveness of this action is required to provide consistent management and conservation of fishery resources based on the best available scientific information. This is particularly pertinent for those species that have lower 2023 ABCs and TACs than those established in the 2022 and 2023 harvest specifications (87 FR 11626, March 2, 2022). If implemented immediately, this rule would ensure that NMFS can properly manage those fisheries for which this rule sets lower 2023 ABCs and TACs based on the most recent biological information on the condition of stocks.

Certain fisheries, such as those for pollock, are intensive, fast-paced fisheries. Other fisheries, such as those for sablefish, flatfish, rockfish, Atka mackerel, skates, sharks, and octopuses, are critical as directed fisheries and as incidental catch in other fisheries. U.S. fishing vessels have demonstrated the capacity to catch the TAC allocations in many of these fisheries. If the date of effectiveness of this final rule were to be delayed 30 days and if a TAC were to be reached during those 30 days, NMFS would be required to close directed fishing or prohibit retention for the applicable species. Any delay in allocating the final TACs in these fisheries would cause confusion to the industry and potential economic harm through unnecessary discards, thus undermining the intent of this rule. Waiving the 30-day delay allows NMFS to prevent economic loss to fishermen that could otherwise occur should the 2023 TACs (previously set under the 2022 and 2023 harvest specifications) be reached. Determining which fisheries may close is nearly impossible because these fisheries are affected by several factors that cannot be predicted in advance, including fishing effort, weather, movement of fishery stocks, and market price. Furthermore, the closure of one fishery has a cascading effect on other fisheries by freeing-up fishing vessels, allowing them to move from closed fisheries to open ones, increasing the fishing capacity in those open fisheries, and in turn causing them to close at an accelerated pace.

In fisheries subject to declining sideboard limits, a failure to implement the updated sideboard limits before initial season's end could deny the intended economic protection to the non-sideboard limited sectors. Conversely, in fisheries with increasing sideboard limits, economic benefit could be denied to the sideboard-limited sectors.

If these final harvest specifications are not effective by March 10, 2023, which is the start of the 2023 Pacific halibut season as specified by the IPHC, the fixed gear sablefish fishery will not begin concurrently with the Pacific halibut IFQ season. Delayed effectiveness of this action would result in confusion for sablefish harvesters and economic harm from the unnecessary discard of sablefish that are caught along with Pacific halibut, as both fixed gear sablefish and Pacific halibut are managed under the same IFQ program. Immediate effectiveness of these final 2023 and 2024 harvest specifications will allow the sablefish IFQ fishery to begin concurrently with the Pacific halibut IFQ season.

Finally, immediate effectiveness also would provide the fishing industry the earliest possible opportunity to plan and conduct its fishing operations with respect to new information about TAC limits. Therefore, NMFS finds good cause to waive the 30-day delay in the date of effectiveness for this rule under 5 U.S.C. 553(d)(3).

Small Entity Compliance Guide

Section 212 of the Small Business Regulatory Enforcement Fairness Act of 1996 states that, for each rule or group of related rules for which an agency is required to prepare a FRFA, the agency shall publish one or more guides to assist small entities in complying with the rule, and shall designate such publications as “small entity compliance guides.” The tables contained in this final rule are provided online and serve as the plain language guide to assist small entities in complying with this final rule as required by the Small Business Regulatory Enforcement Fairness Act of 1996. This final rule's primary purpose is to announce the final 2023 and 2024 harvest specifications and prohibited species bycatch allowances for the groundfish fisheries of the BSAI. This action is necessary to establish harvest limits and associated management measures for groundfish during the 2023 and 2024 fishing years and is taken in accordance with the FMP prepared by the Council pursuant to the Magnuson-Stevens Act. This action directly affects all fishermen who participate in the BSAI fisheries. The specific amounts of OFL, ABC, TAC, and PSC amounts are provided in tables in this final rule to assist the reader. This final rule also contains plain language summaries of the underlying relevant regulations supporting the harvest specifications and the harvest of groundfish in the BSAI that the reader may find helpful.

Information to assist small entities in complying with this final rule is provided online. The OFL, ABC, TAC, and PSC tables are individually available online at https://www.fisheries.noaa.gov/alaska/sustainable-fisheries/alaska-groundfish-harvest-specifications. Explanatory information on the relevant regulations supporting the harvest specifications is found in footnotes to the tables. Harvest specification changes are also available from the same online source, which includes applicable Federal Register notices, information bulletins, and other supporting materials. NMFS will announce closures of directed fishing in the Federal Register and information bulletins released by the Alaska Region. Affected fishermen should keep themselves informed of such closures.

Authority: 16 U.S.C. 773 et seq.; 16 U.S.C. 1540(f); 16 U.S.C. 1801 et seq.; 16 U.S.C. 3631 et seq.; Pub. L. 105-277; Pub. L. 106-31; Pub. L. 106-554; Pub. L. 108-199; Pub. L. 108-447; Pub. L. 109-241; Pub. L. 109-479.

Dated: March 6, 2023.
Samuel D. Rauch, III,
Deputy Assistant Administrator for Regulatory Programs, National Marine Fisheries Service.

[FR Doc. 2023-04877 Filed 3-9-23; 8:45 am]

BILLING CODE 3510-22-P